DEPARTMENT OF HOMELAND SECURITY

Coast Guard

33 CFR Parts 3, 20, 64, 67, 80, 82, 83, 84, 104, 105, 109, 110, 115, 117, 120, 133, 135, 136, 137, 138, 151, 155, 157, 159, 161, 162, 164, 165, 174, and 181

46 CFR Parts 4, 28, 31, 39, 44, 50, 58, 63, 69, 71, 107, 110, 111, 116, 120, 127, 153, 154, 161, 162, 170, 177, 182, and 189

[Docket No. USCG-2016-0498]

Navigation and Navigable Waters, and Shipping; Technical, Organizational, and Conforming Amendments

AGENCY: Coast Guard, DHS.

ACTION: Final rule.

SUMMARY: This final rule makes non-substantive technical, organizational, and conforming amendments to existing Coast Guard regulations. This rule will have no substantive effect on the regulated public.

DATES: This final rule is effective July 28, 2017.

ADDRESSES: Documents mentioned in this preamble as being available in the docket are part of docket USCG-2016-0498, which is available at https://regulations.gov.

FOR FURTHER INFORMATION CONTACT: If you have questions on this final rule, call or email LCDR Felicia Raybon, Coast Guard; telephone 202-372-1499, email Felicia.K.Raybon@uscg.mil.

SUPPLEMENTARY INFORMATION:

Table of Contents for Preamble

I. Abbreviations

II. Regulatory History

III. Basis and Purpose

IV. Discussion of the Rule

V. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Abbreviations

CFR Code of Federal Regulations

COLREGS International Regulations for Preventing Collisions at Sea

DHS Department of Homeland Security

FR Federal Register

MMSI Maritime Mobile Service Identifier

OMB Office of Management and Budget

Pub. L. Public Law

§ Section symbol

USACE U.S. Army Corps of Engineers

U.S.C. United States Code

VMRS Vessel Movement Reporting System

VTS Vessel Traffic Services

II. Regulatory History

We did not publish a notice of proposed rulemaking for this rule. Under Title 5 of the United States Code (U.S.C.), section 553(b)(A), the Coast Guard finds that this rule is exempt from notice and public comment rulemaking requirements because these changes involve rules of agency organization, procedure, or practice. In addition, the Coast Guard finds that notice and comment procedures are unnecessary under 5 U.S.C. 553(b)(B), as this rule consists only of technical and editorial corrections, and these changes will have no substantive effect on the public. Under 5 U.S.C. 553(d)(3), the Coast Guard finds that, for the same reasons, good cause exists for making this final rule effective upon publication in the Federal Register.

III. Basis and Purpose

This rule, which becomes effective on July 28, 2017, makes technical and editorial corrections throughout titles 33 and 46. These changes are necessary to correct errors, change addresses, and make other non-substantive changes that improve the clarity of the Code of Federal Regulations (CFR). This rule does not create or change any substantive requirements.

This final rule is issued under the authority of 5 U.S.C. 552(a) and 553, 14 U.S.C. 2(3), 633; 33 U.S.C. 471 and 499; 46 U.S.C. 2103, 3306, 3703, 5104, and 7701; and Department of Homeland Security Delegation No. 0170.1.

IV. Discussion of the Rule

The Coast Guard periodically issues technical, organizational, and conforming amendments to existing regulations in titles 33 and 46 of the CFR. These “technical amendments” provide the public with more accurate and current regulatory information, but do not change the effect on the public of any Coast Guard regulations.

This rule amends the following sections of title 33 in the CFR:

In § 3.04-1, the Coast Guard adds new paragraph (c), which includes information about the location and boundaries of the Activities Europe Marine Inspection Zone in relation to the Coast Guard “Atlantic Area” to reflect a recent organizational change that placed Activities Europe under the operational and administrative control of the Coast Guard's Atlantic Area Command. The change does not involve a boundary move and only clarifies § 3.04-1 to describe the location of the eastern boundary, and the supervising commander. That eastern boundary is already established in the Activities Far East regulation at 33 CFR 3.70-20; this change states the same boundary from the perspective of Activities Europe. Activities Europe has reported to Coast Guard Atlantic Area (LANTAREA) since 2006 (see 71 FR 35816).

Section 20.302(b) and (c) are revised to include the toll free telephone and fax numbers for the U.S. Coast Guard Administrative Law Judge Docketing Center.

The tables of § 20.304(d) and (g) are revised to accommodate different methods of mail delivery to include Priority or Express Mail with signature confirmation as an alternative to Certified Mail, return receipt.

In § 64.03(b)(1), the text “Subchapter D” is replaced with the text “Subchapter E” to correct a longstanding error in the cross-reference. Subchapter D, “International Navigation Rules,” does not address dredging pipelines, which are the subject of § 64.03(b)(1). Annex V to subchapter E, “Inland Navigation Rules,” addresses lights on dredging pipelines. Regulations for these lights have never been in subchapter D.

This rule revises § 67.10-25(a) to remove a redundant address.

This rule corrects a typographical error in one of the geographical coordinates in § 80.155(b).

Also, this rule corrects a typographical error in § 80.502(a) by removing the letter “s” from “Little Egg Inlet.”

In § 82.5, this rule changes the text “33 CFR 88.30(h)” to “33 CFR 83.30(h),” to conform to the regulatory redesignation made by a 2014 final rule (see 79 FR 37898, July 2, 2014).

This rule revises §§ 83.09(e)(i) and 83.24(d) by adding minor rewordings and terminology revisions to conform to the International Regulations for Preventing Collisions at Sea (COLREGS).

This rule redesignates existing § 83.24(i), as new paragraph (j), and existing paragraph (j) as new paragraph (i). The new paragraph (i), removes the text “paragraph (a), (c), or (i)” and adds, in its place, the text “paragraphs (a), (c), or (j).” These changes are made to conform to COLREGS.

This rule amends § 84.15 by redesignating paragraph (b) as (b)(i) and redesignating paragraph (c) as (b)(ii), and redesignating the note to paragraph (c) as the note to paragraph (b)(ii) to align CFR numbering to conform to COLREGS.

This rule updates the Coast Guard's address information in §§ 104.400(b), 120.305(a), 133.3(b), 133.25(c), 135.9, 136.3, 136.5(b), 136.101(b), 137.15, 138.45(a), 151.1510(a)(3)(ii), 151.2025(b), 151.2026(b), 157.100(b), 157.200(b), 159.4(a), 159.12(c), 159.15(a) and (c), 159.17(a), and 159.19(a). Also, in § 138.45(a), the Coast Guard updates the phone number and fax number for the Coast Guard's National Pollution Funds Center.

In § 105.110(b), this rule revises the internal cross-references to conform to regulatory changes made by a 2007 rule (72 FR 3492, Jan. 25, 2007), which does not affect the meaning of the cross-references.

This rule amends the authority citation in part 109. This change makes necessary conforming amendments to reflect the transfers of functions from the Secretary of War to the Secretary of Transportation to the Secretary of Homeland Security, and to eliminate superfluous references in law.

This rule revises § 110.79c to correct erroneous coordinates describing the boundaries of the anchorage at Fish Creek Harbor, WI and to add a note that the Town of Gibraltar, WI regulates the use of vessels and moorings in that area. This technical amendment does not alter the existing boundaries of the anchorage.

This rule redesignates §§ 115.10 through 115.30. Those redesignations are as follows: Current § 115.10, “Limiting date in permits,” becomes § 115.15; current § 115.15, “Permit bonds,” becomes § 115.20; current § 115.20, “Transfer of permits,” becomes § 115.30; and current § 115.30, “Sufficiency of State authority for bridges” becomes § 115.10. The purpose of these redesignations is to have the state authority regulations appear together in the CFR.

This rule amends §§ 115.05 and 115.50(e) introductory text and (e)(1) by replacing the word “extract” with “excerpt.” The purpose of this change is to use a term more clearly understood to mean that the applicant of a bridge permit should “select” a section, instead of “pulling out” a section from the charter, statement of ownership, minutes of the organization, or proceedings when applying for a bridge permit. In addition, this rule corrects grammatical errors in § 115.50(e) by adding the word “an” before “excerpt” and adding the word “the” before “minutes.”

This rule amends language in § 115.50 “Application for bridge permits” paragraph (h)(2) by changing the opening phrase as follows: (1) “Currents” is being changed to “current” because inland rivers have one current, which only flows one way; (2) “tidal water” is being added to clarify that the current flows two ways (ebbs and flows); (3) “strength of current” is being removed because it is a function of the navigation study, which comes prior to the bridge application process; and (4) “low and high water” is removed because of redundancy in paragraph (h)(3).

This rule clarifies a phrase in § 115.50(h)(3) by replacing the text “the plane above which flood waters have not remained more than 2 percent of the time” with the text “the 2 percent flowline (the plane above which flood waters have not remained more than 2 percent of the time)” to better describe the records of river heights to be shown if they are available.

This rule amends § 117.55(a) by replacing “through” with “and” because there are only two other sections within the range described: another section was removed by a 2006 rule (71 FR 70305, Dec. 4, 2006).

This rule amends § 155.480(b)(2)(iii) by changing the internal cross-reference to conform to regulatory redesignations made by a 2013 rule (78 FR 42642, July 16, 2013), which does not affect the meaning of the cross-references. A 2015 technical amendment attempted to correct the cross-reference but inadvertently omitted the citations to paragraphs (b)(2) and (3).

This rule amends §§ 155.1065(a), 155.1070(f), 155.5035(k), 155.5061(a), (c), and (f), 155.5065(a), 155.5067(a), and section 6.5 of appendix B to part 155 to change the name of the office listed in these regulations to reflect delegation from Commandant (CG-CVC) to Commandant (CG-MER).

This rule amends §§ 155.1065(h), 155.1070(g), and 155.5075(a) and (b) to change the name of the office listed in these regulations to reflect delegation from Director of Inspections and Compliance (CG-5PC) to Director of Incident Management and Preparedness Policy (CG-5RI).

Sections 155.4025 and 155.4055(d) and (f) are revised to show a change in the office name from “Director of Prevention Policy (CG-5P)” to “Assistant Commandant for Response Policy (CG-5R)” to reflect that office's delegation.

This rule amends the formatting and specific portions of the text in the Table to § 161.12(c) for clarity and ease of reading. The changes include:

(a) Formatting changes to disaggregate one column into two columns and add letters and numbers to each row;

(b) Moving the Maritime Mobile Service Identifier (MMSI) from the “VTS and VMRS Centers” column to the “Center call sign and MMSI” column; and

(c) Removing the name of the “Center MMSI call sign” column, and adding in its place, “Center call sign and MMSI.”

This rule also amends the table heading and text in Table to § 161.12(c) for the following reasons:

(a) Revise the frequency listed for Buzzards Bay Control from “156.600 MHz (Ch. 12)” to “156.550 MHz (Ch. 11)” to reflect the new listening frequency, as approved by the Federal Communications Commission;

(b) Correct a longitude coordinate for Buzzards Bay Control to accurately reflect the correct position of the Buzzards Bay Entrance Light;

(c) Revise the coordinate location for Puget Sound Seattle Traffic (Ch. 5A) to reflect the closure of the Canadian traffic management area “Tofino Traffic.” As a result of this closure, we are changing the description of the sub-areas for our joint U.S./Canadian Vessel Traffic Services (VTS) area. Neither the size of the area has changed nor has the radio frequency. The change only reflects the way the Coast Guard describes and identifies the sub-areas;

(d) Revise the name of the traffic management area Puget Sound from “Tofino Traffic 003160012” to “Prince Rupert Traffic 003160013,” and to update the coordinates for the monitoring area to reflect the closure of Tofino Traffic; and

(e) Revise the coordinate location for Puget Sound Victoria Traffic to reflect the closure of the Canadian traffic management area “Tofino Traffic.”

This rule amends the Table to § 161.45(b) by revising the heading and by removing an “*” to correct a typographical error.

This rule amends § 161.50 by adding symbols to the coordinates for Vessel Traffic Service San Francisco to denote degrees.

This rule amends the introduction to § 161.55 by removing the text referring to the waters known as “the Strait of Juan de Fuca, Haro Strait, Boundary Pass, and the Strait of Georgia to the Washington State coastline” and the areas covering those navigable waters including “Puget Sound, Hood Canal, Possession Sound, the San Juan Island Archipelago, Rosario Strait, Guemes Channel, Bellingham Bay, the U.S. waters of the Strait of Juan de Fuca and the Strait of Georgia,” and adding, in its place, reference to the “U.S. navigable waters of the Salish Sea.” In 2009, the U.S. Board on Geographic Names made a determination that waters previously described in the VTS Puget Sound should now be recognized as the “U.S. navigable waters of Salish Sea,” which replaces the removed text. The deleted text is no longer necessary to describe the VTS Puget Sound area. Also, we are converting some of the latitude and longitude coordinates so that they are in a more common positioning format of degrees, minutes, and decimal minutes instead of degrees, minutes, and seconds.

This rule amends § 161.55(a) by removing the text referring to all the waters including “Strait of Juan de Fuca and its offshore approaches, southern Georgia Strait, the Gulf and San Juan Archipelagos, Rosario Strait, Boundary Pass and Haro Strait, and Strait of Georgia,” and adding in its place, reference to “all navigable waters of the Salish Sea.” In 2009, the U.S. Board on Geographic Names made a determination that waters previously described in the VTS Puget Sound should now be recognized as the “U.S. navigable waters of Salish Sea,” which replaces the removed text for the same reasons, discussed in the preceding paragraph. In paragraph (a), this rule also removes reference to “Tofino” and adds a reference to “Prince Rupert” to reflect the closure of Tofino Traffic.

This rule amends § 162.205(a)(3)(i) and (b)(2)(i) by updating the cross-reference from “part 80” to “part 83” to correctly reference the inland navigation rules in 33 CFR part 83 instead of the international navigation rules in 33 CFR part 80.

This rule amends §§ 164.33(a)(3)(ii) and 164.72(b)(2)(i)(C) by removing references to the U.S. Army Corps of Engineers (USACE) from this section, as the USACE no longer issues river current publications.

This rule amends the note to paragraph (b) of § 164.46 by adding examples of the types of fishing industry vessels, consistent with 46 U.S.C. 2101. The 2015 rule covering Automatic Identification System requirements (80 FR 5282, Jan. 30, 2015) amended § 164.46(b)(2) to include fishing industry vessels, and described them as “any vessel engaged in the fishing trade.”

This rule amends § 165.100(d)(5) by removing typographical errors from the coordinates listed in this section and changing the coordinates to accurately reflect the correct position for Buzzards Bay Entrance Light.

This rule removes § 165.T0704 and adds § 165.704 in its place. This change reflects that this is a permanent regulation and not a temporary regulation. Also, in paragraph (c)(3), the telephone number is updated.

This rule removes § 165.766 from the CFR as it is duplicative and unnecessary. Section 165.766 became effective after a 2007 interim rule (72 FR 43535, August 6, 2007) was published. However, a 2008 final rule (73 FR 27746, May 14, 2008) made a slight boundary change from the 2007 interim rule, and finalized the interim rule, under a new section number, § 165.770.

This rule revises the heading of § 174.123 by removing “numbered” from the title. Also, we remove the title, “Report of Certificates of Number Issued to Boats, to the Coast Guard” from Coast Guard Form CGHQ-3923 because the title does not reflect the contents of the form. The Coast Guard plans to seek approval from the Office of Management and Budget (OMB) to create a new version of the form with a different title.

This rule revises § 181.3 by removing the term and definition of “Model year” because it is superseded by the model year set in the Coast Guard Authorization Act of 2015 (see Pub. L. 114-120, 130 Stat. 27, February 8, 2016).

This rule makes changes in the following sections of title 46 in the CFR:

This rule amends § 4.07-10(a)(4) by removing reference to Coast Guard Form CG-2636, as this form has been cancelled. There is no impact on the public because this form was used internally by Coast Guard investigative officers.

This rule replaces the name of the organization accepted by the Commandant to receive and process casualty data in § 28.80(d)(1) from “Marine Index Bureau” to “Verisk Insurance Solutions.” Verisk Insurance Solutions is the same company as Marine Index Bureau; however, the company name was changed. This rule also removes “Floor 22-8” from the address listed in § 28.80(d)(1) because the current address for Verisk Insurance Solutions does not contain this information.

This rule updates the Coast Guard's address information in §§ 28.1105(a), 31.10-5(a), 39.1003, 44.320(a), 50.10-23, 63.10-1, 63.25-9(a), 69.15(a), 71.65-15(a)(2), 107.317(b), 110.25-3(a)(1), 116.202(a), 127.120(b), 153.9(b), 154.22(a), 161.010-1(a), 161.010-4(a), 162.017-6(a), 162.018-8(a), 162.050-7(a), 162.060-10(a) and (b)(1), 162.060-14(b), 162.060-42(a)(3) and (g), 170.010, 170.100(b), 177.202(d), 177.410(b)(5), and 189.55-15(a)(2).

This rule amends § 39.2007(e) and (f) by correcting an inaccurate cross-reference inadvertently made in the 2013 rule (78 FR 42596, July 16, 2013). The existing cross-reference is to § 39.2009(c) and (d), which do not exist. This rule amends tables to §§ 58.50-5(a), 58.50-10(a), and 182.440(a)(1) by shifting particular rows in each table to correct a misprint. In each existing table the contents of the final row are incorrectly shifted to the left such that the contents do not line up with the headings. This rule also reformats the table titles.

This rule amends the authority citation for part 110 by removing “33 U.S.C. 1509” because Deepwater Ports' regulations in 33 CFR subchapter NN no longer refer to 46 CFR subchapter J “Electrical Engineering” regulations.

This rule amends § 110.15-1 by removing the definitions of “Marine inspector or inspector” and “Qualified person” as these terms are not used in 46 CFR subchapter J. This rule amends § 111.33-1 by removing an outdated reference to § 111.30-21, which was removed from the CFR in 1996 (61 FR 4132, Feb. 2, 1996).

This rule amends §§ 111.105-19 and 120.340(p) by correcting a typographical error in the cross-referenced citations. The existing cross-reference in § 111.105-19 is to § 111.105-19 itself, but should be to § 111.105-9 on explosion-proof and flameproof equipment. The existing cross-reference in § 120.340(p) is to Table 120.3340(p), but should be to Table 1 to § 120.340(p).

V. Regulatory Analyses

We developed this rule after considering numerous statutes and Executive orders related to rulemaking. Below we summarize our analyses based on these statutes or Executive orders.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, of reducing costs, of harmonizing rules, and of promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this rule a significant regulatory action under section 3(f) of Executive Order 12866. Accordingly, OMB has not reviewed it. Because this rule is not a significant regulatory action, this rule is exempt from the requirements of Executive Order 13771. See the OMB memorandum titled “Interim Guidance Implementing Section 2 of the Executive Order of January 30, 2017 titled `Reducing Regulation and Controlling Regulatory Costs' ” (February 2, 2017). A regulatory analysis (RA) follows.

Because this rule involves non-substantive changes and internal agency practices and procedures, it will not impose any additional costs on the public. The benefit of the non-substantive changes is increased clarity of regulations.

B. Small Entities

Under the Regulatory Flexibility Act, 5 U.S.C. 601-612, rules exempt from the notice and comment requirements of the Administrative Procedure Act are not required to examine the impact of the rule on small entities. Nevertheless, we have considered whether this rule would have a significant economic impact on a substantial number of small entities. The term “small entities” comprises small businesses, not-for-profit organizations that are independently owned and operated and are not dominant in their fields, and governmental jurisdictions with populations of less than 50,000.

There is no cost to this final rule, and we do not expect it will have an impact on small entities because the provisions of this rule are technical and non-substantive. It will have no substantive effect on the public and will impose no additional costs. Therefore, the Coast Guard certifies under 5 U.S.C. 605(b) that this final rule will not have a significant economic impact on a substantial number of small entities.

C. Assistance for Small Entities

Under section 213(a) of the Small Business Regulatory Enforcement Fairness Act of 1996 (Pub. L. 104-121), we want to assist small entities in understanding this rule so that they can better evaluate its effects on them and participate in the rulemaking. If the rule would affect your small business, organization, or governmental jurisdiction and you have questions concerning its provisions or options for compliance, please consult LCDR Nicole Burgess by phone at 202-372-1493 or via email at Nicole.S.Burgess@uscg.mil. The Coast Guard will not retaliate against small entities that question or complain about this rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This rule calls for no new collection of information under the Paperwork Reduction Act of 1995 (44 U.S.C. 3501-3520).

E. Federalism

A rule has implications for federalism under Executive Order 13132 (“Federalism”) if it has a substantial direct effect on States, on the relationship between the national government and the States, or on the distribution of power and responsibilities among the various levels of government. We have analyzed this rule under that order and have determined that it is consistent with the fundamental federalism principles and preemption requirements described in Executive Order 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any 1 year. Though this final rule will not result in such an expenditure, we do discuss the effects of this rule elsewhere in this preamble.

G. Taking of Private Property

This final rule will not cause a taking of private property or otherwise have taking implications under Executive Order 12630 (“Governmental Actions and Interference with Constitutionally Protected Property Rights”).

H. Civil Justice Reform

This final rule meets applicable standards in sections 3(a) and 3(b)(2) of Executive Order 12988 (“Civil Justice Reform”), to minimize litigation, eliminate ambiguity, and reduce burden.

I. Protection of Children

We have analyzed this final rule under Executive Order 13045 (“Protection of Children from Environmental Health Risks and Safety Risks”). This final rule is not an economically significant rule and would not create an environmental risk to health or risk to safety that might disproportionately affect children.

J. Indian Tribal Governments

This final rule does not have tribal implications under Executive Order 13175 (“Consultation and Coordination with Indian Tribal Governments”), because it does not have a substantial direct effect on one or more Indian tribes, on the relationship between the Federal Government and Indian tribes, or on the distribution of power and responsibilities between the Federal Government and Indian tribes.

K. Energy Effects

We have analyzed this final rule under Executive Order 13211 (“Actions Concerning Regulations That Significantly Affect Energy Supply, Distribution, or Use”). We have determined that it is not a “significant energy action” under that order because it is not a “significant regulatory action” under Executive Order 12866 and is not likely to have a significant adverse effect on the supply, distribution, or use of energy. The Administrator of OMB's Office of Information and Regulatory Affairs has not designated it as a significant energy action. Therefore, it does not require a Statement of Energy Effects under Executive Order 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies.

This final rule does not use technical standards. Therefore, we did not consider the use of voluntary consensus standards.

M. Environment

We have analyzed this rule under Department of Homeland Security Management Directive 023-01 and Commandant Instruction M16475.lD, which guide the Coast Guard in complying with the National Environmental Policy Act of 1969 (42 U.S.C. 4321-4370f), and have concluded that this action is one of a category of actions that do not individually or cumulatively have a significant effect on the human environment. This rule is categorically excluded under section 2.B.2 and figure 2-1, paragraphs (34)(a) and (34)(b) of the Instruction. This final rule involves amendments to regulations that are editorial or procedural. A Record of Environmental Consideration (REC) supporting this determination is available in the docket where indicated under ADDRESSES.

List of Subjects

33 CFR Part 3

Organization and functions (Government agencies).

33 CFR Part 20

Administrative practice and procedure, Hazardous substances, Oil pollution, Penalties, Water pollution control.

33 CFR Part 64

Navigation (water), Reporting and recordkeeping requirements.

33 CFR Part 67

Continental shelf, Navigation (water), Reporting and recordkeeping requirements.

33 CFR Part 80

Navigation (water), Treaties, Waterways.

33 CFR Part 82

Navigation (water), Treaties.

33 CFR Part 83

Fishing vessels, Navigation (water), Waterways.

33 CFR Part 84

Navigation (water), Waterways.

33 CFR Part 104

Maritime security, Reporting and recordkeeping requirements, Security measures, Vessels.

33 CFR Part 105

Maritime security, Reporting and recordkeeping requirements, Security measures.

33 CFR Parts 109 and 110

Anchorage grounds.

33 CFR Part 115

Administrative practice and procedure, Bridges, Reporting and recordkeeping requirements.

33 CFR Part 117

Bridges.

33 CFR Part 120

Passenger vessels, Reporting and recordkeeping requirements, Security measures, Terrorism.

33 CFR Part 133

Intergovernmental relations, Oil pollution, Reporting and recordkeeping requirements.

33 CFR Part 135

Administrative practice and procedure, Continental shelf, Insurance, Oil pollution, Reporting and recordkeeping requirements.

33 CFR Part 136

Administrative practice and procedure, Advertising, Claims, Oil pollution, Penalties, Reporting and recordkeeping requirements.

33 CFR Part 137

Administrative practice and procedure, Environmental protection, Intergovernmental relations, Oil pollution, Reporting and recordkeeping requirements.

33 CFR Part 138

Hazardous materials transportation, Insurance, Oil pollution, Reporting and recordkeeping requirements, Surety bonds, Vessels, Water pollution control.

33 CFR Part 151

Administrative practice and procedure, Oil pollution, Penalties, Reporting and recordkeeping requirements, Water pollution control.

33 CFR Part 155

Alaska, Hazardous substances, Oil pollution, Reporting and recordkeeping requirements.

33 CFR Part 157

Cargo vessels, Oil pollution, Reporting and recordkeeping requirements.

33 CFR Part 159

Alaska, Incorporation by reference, Reporting and recordkeeping requirements, Sewage disposal, Vessels.

33 CFR Part 161

Harbors, Navigation (water), Reporting and recordkeeping requirements, Vessels, Waterways.

33 CFR Part 162

Navigation (water), Waterways.

33 CFR Part 164

Marine, Navigation (water), Reporting and recordkeeping requirements, Waterways.

33 CFR Part 165

Harbors, Marine safety, Navigation (water), Reporting and recordkeeping requirements, Security measures, Waterways.

33 CFR Part 174

Intergovernmental relations, Marine safety, Reporting and recordkeeping requirements.

33 CFR Part 181

Labeling, Marine safety, Reporting and recordkeeping requirements.

46 CFR Part 4

Administrative practice and procedure, Drug testing, Investigations, Marine safety, National Transportation Safety Board, Nuclear vessels, Radiation protection, Reporting and recordkeeping requirements, Safety, Transportation.

46 CFR Part 28

Alaska, Fire prevention, Fishing vessels, Marine safety, Occupational safety and health, Reporting and recordkeeping requirements, Seamen.

46 CFR Part 31

Cargo vessels, Marine safety, Reporting and recordkeeping requirements.

46 CFR Part 39

Cargo vessels, Fire prevention, Hazardous materials transportation, Incorporation by reference, Marine safety, Occupational safety and health, Reporting and recordkeeping requirements.

46 CFR Parts 44, 50, 58, and 110

Reporting and recordkeeping requirements, Vessels.

46 CFR Parts 63 and 111

Vessels.

46 CFR Part 69

Penalties, Reporting and recordkeeping requirements, Vessels.

46 CFR Part 71

Marine safety, Passenger vessels, Reporting and recordkeeping requirements.

46 CFR Part 107

Marine safety, Oil and gas exploration, Reporting and recordkeeping requirements, Vessels.

46 CFR Part 116

Fire prevention, Marine safety, Passenger vessels, Seamen.

46 CFR Part 120

Marine safety, Passenger vessels.

46 CFR Part 127

Cargo vessels, Fire prevention, Marine safety, Occupational safety and health, Reporting and recordkeeping requirements, Seamen.

46 CFR Part 153

Administrative practice and procedure, Cargo vessels, Hazardous materials transportation, Marine safety, Reporting and recordkeeping requirements, Water pollution control.

46 CFR Part 154

Cargo vessels, Gases, Hazardous materials transportation, Marine safety, Reporting and recordkeeping requirements.

46 CFR Part 161

Fire prevention, Incorporation by reference, Marine safety, Reporting and recordkeeping requirements.

46 CFR Part 162

Fire prevention, Marine safety, Oil pollution, Reporting and recordkeeping requirements.

46 CFR Part 170

Marine safety, Reporting and recordkeeping requirements, Vessels.

46 CFR Part 177

Marine safety, Passenger vessels, Reporting and recordkeeping requirements.

46 CFR Part 182

Marine safety, Passenger vessels.

46 CFR Part 189

Marine safety, Oceanographic research vessels, Reporting and recordkeeping requirements.

For the reasons discussed in the preamble, the Coast Guard amends 33 CFR parts 3, 20, 64, 67, 80, 82, 83, 84, 104, 105, 109, 110, 115, 117, 120, 133, 135, 136, 137, 138, 151, 155, 157, 159, 161, 162, 164, 165, 174, and 181 and 46 CFR parts 4, 28, 31, 39, 44, 50, 58, 63, 69, 71, 107, 110, 111, 116, 120, 127, 153, 154, 161, 162, 170, 177, 182, and 189 as follows:

Title 33—Navigation and Navigable Waters

PART 3—COAST GUARD AREAS, DISTRICTS, SECTORS, MARINE INSPECTION ZONES, AND CAPTAIN OF THE PORT ZONES

1. The authority citation for part 3 continues to read as follows:

Authority: 14 U.S.C. 92 & 93; Pub. L. 107-296, 116 Stat. 2135; Department of Homeland Security Delegation No. 0170.1, para. 2(23).

2. In § 3.04-1, add paragraph (c) to read as follows:

§ 3.04-1 Atlantic Area.

* * * * *

(c)(1) Activities Europe is a part of Atlantic Area. Activities Europe's office is located in Schinnen, the Netherlands. The boundaries of Activities Europe's Marine Inspection Zone coincide with the boundaries of the Atlantic Area, which are described in paragraph (b) of this section, excluding the First, Fifth, Seventh, Eighth, and Ninth Coast Guard Districts.

(2) Only for this part, the boundary between Activities Europe and Activities Far East Marine Inspection Zones is demarked by a southerly line bisecting the border of the Republic of India and the Islamic Republic of Pakistan.

PART 20—RULES OF PRACTICE, PROCEDURE, AND EVIDENCE FOR FORMAL ADMINISTRATIVE PROCEEDINGS OF THE COAST GUARD

3. The authority citation for part 20 continues to read as follows:

Authority: 33 U.S.C. 1321; 42 U.S.C. 9609; 46 U.S.C. 7701, 7702; Department of Homeland Security Delegation No. 0170.1, para. 2(73).

4. Revise paragraphs (b) and (c) of § 20.302 to read as follows:

§ 20.302 Filing of documents and other materials.

* * * * *

(b) The telephone number is: 410-962-5100. The toll-free telephone number is: 1-866-612-7524.

(c) The fax number is: 410-962-1746. The toll-free fax number is: 1-877-243-3453.

* * * * *

5. Amend § 20.304 as follows:

a. Revise the heading and entries 1 and 2 of Table 20.304(d);

b. In Table 20.304(e), remove the text “Table 20.304(e)” and add, in its place, the text “Table 1 to § 20.304(e)”;

c. In Table 20.304(f), remove the text “Table 20.304(f)” and add, in its place, the text “Table 1 to § 20.304(f)”; and

d. Revise the heading and entry 3 of Table 20.304(g).

The revisions read as follows:

§ 20.304 Service of documents.

* * * * *

(d) * * *

Table 1 to § 20.304(d)—How To Serve Filed Documents
Type of filed document | Acceptable methods of service
(1) Complaint | (i) Certified mail, return receipt requested; Priority mail with signature confirmation; or Express Mail with signature confirmation. (ii) Personal delivery. (iii) Express-courier service that has receipt capability.
(2) Default motion | (i) Certified mail, return receipt requested; Priority mail with signature confirmation; or Express Mail with signature confirmation. (ii) Personal delivery. (iii) Express-courier service that has receipt capability.
* * * * * * *

* * * * *

(g) * * *

Table 1 to § 20.304(g)—When Service Is Complete
If method of service used is— | Then service is complete when the document is—
* * * * * * *
(3) Certified Mail, Priority Mail, Express Mail, or express-courier (Complaint or Default Motion) | (i) Delivered to the person's residence and signed for by a person of suitable age and discretion residing at the individual's residence. (ii) Delivered to the person's office during business hours and signed for by a person of suitable age and discretion.
* * * * * * *

* * * * *

PART 64—MARKING OF STRUCTURES, SUNKEN VESSELS, AND OTHER OBSTRUCTIONS

6. The authority citation for part 64 continues to read as follows:

Authority: 14 U.S.C. 633; 33 U.S.C. 409, 1231; 42 U.S.C. 9118; 43 U.S.C. 1333; Department of Homeland Security Delegation No. 0170.1.

§ 64.03 [Amended]

7. Amend § 64.03 as follows:

a. In paragraph (b)(1), remove the text “Subchapter D” and add, in its place, the text “subchapter E”; and

b. In paragraph (b)(2), remove the word “Subchapter” and add, in its place, the word “subchapter”.

PART 67—AIDS TO NAVIGATION ON ARTIFICIAL ISLANDS AND FIXED STRUCTURES

8. The authority citation for part 67 continues to read as follows:

Authority: 14 U.S.C. 85, 633; 43 U.S.C. 1333; Department of Homeland Security Delegation No. 0170.1.

9. Revise § 67.10-25(a) introductory text to read as follows:

§ 67.10-25 Application for tests.

* * * * *

(a) Direct a written request to the Aids to Navigation Division (CG-NAV-1), U.S. Coast Guard Stop 7418, 2703 Martin Luther King Jr. Avenue SE., Washington, DC 20593-7418 including:

* * * * *

PART 80—COLREGS DEMARCATION LINES

10. The authority citation for part 80 continues to read as follows:

Authority: 14 U.S.C. 2; 14 U.S.C. 633; 33 U.S.C. 151(a).

§ 80.155 [Amended]

11. In § 80.155(b), remove the text “41°12′2.900″ N.” and add, in its place, the text “41°12′22.900″ N.”.

§ 80.502 [Amended]

12. In § 80.502(a), remove the text “Little Egg Inlets” and add, in its place, the text “Little Egg Inlet”.

PART 82—72 COLREGS: INTERPRETATIVE RULES

13. The authority citation for part 82 continues to read as follows:

Authority: 14 U.S.C. 2, 633; 33 U.S.C. 1602; E.O. 11964, 42 FR 4327, 3 CFR, 1977 Comp., p. 88; 49 CFR 1.46(n).

§ 82.5 [Amended]

14. In § 82.5, remove the text “33 CFR 88.30(h)” and add, in its place, the text “33 CFR 83.30(h)”.

PART 83—RULES

15. The authority citation for part 83 continues to read as follows:

Authority: Sec. 303, Pub. L. 108-293, 118 Stat. 1042 (33 U.S.C. 2071); Department of Homeland Security Delegation No. 0170.1.

§ 83.09 [Amended]

16. In § 83.09(e)(i), remove the word “danger”.

§ 83.24 [Amended]

17. Amend § 83.24 as follows:

a. In § 83.24(d), remove the word “apply” and add, in its place, the word “applies”;

b. Redesignate paragraphs (i) and (j) as paragraphs (j) and (i), respectively; and

c. In newly redesignated paragraph (i), remove the text “paragraph (a), (c), or (i)” and add, in its place, the text “paragraph (a), (c), or (j)”.

PART 84—ANNEX I: POSITIONING AND TECHNICAL DETAILS OF LIGHTS AND SHAPES

18. The authority citation for part 84 continues to read as follows:

Authority: Sec. 303, Pub. L. 108-293, 118 Stat. 1042 (33 U.S.C. 2071); Department of Homeland Security Delegation No. 0170.1.

§ 84.15 [Amended]

19. Amend § 84.15 as follows:

a. Redesignate paragraphs (b) and (c) as paragraphs (b)(i) and (ii);

b. In newly redesignated paragraph (b)(ii), remove the text “paragraph (b)” and add, in its place, the text “paragraph (b)(i)”; and

c. Redesignate the Note to paragraph (c) as Note 1 to paragraph (b)(ii).

PART 104—MARITIME SECURITY: VESSELS

20. The authority citation for part 104 continues to read as follows:

Authority: 33 U.S.C. 1226, 1231; 46 U.S.C. Chapter 701; 50 U.S.C. 191; 33 CFR 1.05-1, 6.04-11, 6.14, 6.16, and 6.19; Department of Homeland Security Delegation No. 0170.1.

§ 104.400 [Amended]

21. In § 104.400(b), remove the text “Attn: Marine Safety Center, U.S. Coast Guard Stop 7410, 4200 Wilson Boulevard, Suite 400, Arlington, VA 20598-7410”, and add, in its place, the text “Attn: Marine Safety Center, U.S. Coast Guard Stop 7430, 2703 Martin Luther King Jr. Avenue SE., Washington, DC 20593-7430”.

PART 105—MARITIME SECURITY: FACILITIES

22. The authority citation for part 105 continues to read as follows:

Authority: 33 U.S.C. 1226, 1231; 46 U.S.C. 70103; 50 U.S.C. 191; 33 CFR 1.05-1, 6.04-11, 6.14, 6.16, and 6.19; Department of Homeland Security Delegation No. 0170.1.

§ 105.110 [Amended]

23. In § 105.110(b), remove the text “§ 105.255(c), (e)(1), (e)(3), (f)(1), and (g)(1) and § 105.285(a)(1)” and add, in its place, the text “§§ 105.255(c), (f)(2) and (4), (g)(1), and (h)(1) and 105.285(a)(1)”.

PART 109—GENERAL

24. Revise the authority citation for part 109 to read as follows:

Authority: 33 U.S.C. 471 and 1231; Pub. L. 107-296, 116 Stat. 2135; Department of Homeland Security Delegation No. 0170.1.

PART 110—ANCHORAGE REGULATIONS

25. The authority citation for part 110 continues to read as follows:

Authority: 33 U.S.C. 471, 1221 through 1236, 2071; 33 CFR 1.05-1; Department of Homeland Security Delegation No. 0170.1.

26. Revise § 110.79c to read as follows:

§ 110.79c Fish Creek Harbor, Fish Creek, Wisconsin.

The area within the following boundaries: Beginning at latitude 45°07′52″ N., longitude 87°14′42″ W.; thence to latitude 45°07′53″ N., longitude 87°14′37″ W.; thence to latitude 45°07′47″ N., longitude 87°14′30″ W.; thence to latitude 45°07′42″ N., longitude 87°14′37″ W.; thence to latitude 45°07′44″ N., longitude 87°14′40″ W.; thence to latitude 45°07′48″ N., longitude 87°14′38″ W.; thence to the point of beginning.

Note 1 to § 110.79c: An ordinance of the Town of Gibraltar, WI, requires moorings to be approved by the Harbor Commission of the Town of Gibraltar and provides for other regulation of the use of vessels and moorings in this area.

PART 115—BRIDGE LOCATIONS AND CLEARANCES; ADMINISTRATIVE PROCEDURES

27. The authority citation for part 115 continues to read as follows:

Authority: c. 425, sec. 9, 30 Stat. 1151 (33 U.S.C. 401); c. 1130, sec. 1, 34 Stat. 84 (33 U.S.C. 491); sec. 5, 28 Stat. 362, as amended (33 U.S.C. 499); sec. 11, 54 Stat. 501, as amended (33 U.S.C. 521); c. 753, Title V, sec. 502, 60 Stat. 847, as amended (33 U.S.C. 525); 86 Stat. 732 (33 U.S.C. 535); 14 U.S.C. 633.

§ 115.05 [Amended]

28. In § 115.05 remove the word “extract” and add, in its place, the word “excerpt”.

§§ 115.10, 115.15, 115.20, and 115.30 [Redesignated as §§ 115.15, 115.20, 115.30, and 115.10]

29. Redesignate §§ 115.10, 115.15, 115.20, and 115.30 as §§ 115.15, 115.20, 115.30, and 115.10, respectively.

30. Amend § 115.50 as follows:

a. In paragraph (e) introductory text, remove the text “extract from” and add, in its place, the text “an excerpt from the”;

b. In paragraph (e)(1), remove the word “extracts” and add, in its place, the word “excerpts”;

c. Revise paragraph (h)(2); and

d. In paragraph (h)(3), remove the text “available, the plane above which flood waters have not remained more than 2 percent of the time will” and add, in its place, the text “available, the 2 percent flowline (the plane above which flood waters have not remained more than 2 percent of the time) will”.

The revision reads as follows:

§ 115.50 Application for bridge permits.

* * * * *

(h) * * *

(2) The direction of the current or, for tidal waters, the direction of the ebb and flow, will be indicated by arrow(s), and will be shown close to the proposed location of the bridge, and at both ends of the waterway shown on the map of location.

* * * * *

PART 117—DRAWBRIDGE OPERATION REGULATIONS

31. The authority citation for part 117 continues to read as follows:

Authority: 33 U.S.C. 499; 33 CFR 1.05-1; and Department of Homeland Security Delegation No. 0170.1.

§ 117.55 [Amended]

32. Amend § 117.55(a) by removing the text “Subpart A or §§ 117.51 through 117.59 of this part” and adding, in its place, the text “subpart A of this part or §§ 117.51 and 117.59”.

PART 120—SECURITY OF PASSENGER VESSELS

33. The authority citation for part 120 continues to read as follows:

Authority: 33 U.S.C. 1231; Department of Homeland Security Delegation No. 0170.

34. Revise § 120.305(a) to read as follows:

§ 120.305 What is the procedure for examination?

(a) You must submit two copies of each Vessel Security Plan required by § 120.300, or of any Terminal Security Plan or annex required or permitted under § 120.303 or § 128.305 of this chapter, to the Commanding Officer, Marine Safety Center, U.S. Coast Guard, 2703 Martin Luther King Jr. Avenue SE., Washington, DC 20593 for visitors. Send all mail to: Commanding Officer (MSC), Attn: Marine Safety Center, U.S. Coast Guard Stop 7430, 2703 Martin Luther King Jr. Avenue SE., Washington, DC 20593-7430, for examination at least 60 days before embarking passengers on a voyage described in § 120.100.

* * * * *

PART 133—OIL SPILL LIABILITY TRUST FUND; STATE ACCESS

35. The authority citation for part 133 continues to read as follows:

Authority: 33 U.S.C. 2712(a)(1)(B), 2712(d) and 2712(e); Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p. 166; Department of Homeland Security Delegation No. 0170.1., para. 2(80).

§ 133.3 [Amended]

36. In § 133.3(b), remove the text “NPFC MS 7100, U.S. Coast Guard, 4200 Wilson Blvd., Suite 1000, Arlington, VA 20598-7100” and add, in its place, the text “U.S. Coast Guard Stop 7605, 2703 Martin Luther King Jr. Avenue SE., Washington, DC 20593-7605”.

§ 133.25 [Amended]

37. In § 133.25(c), remove the text “NPFC CM, MS 7100, U.S. Coast Guard, 4200 Wilson Blvd., Suite 1000, Arlington, VA 20598-7100” and add, in its place, the text “U.S. Coast Guard Stop 7605, 2703 Martin Luther King Jr. Avenue SE., Washington, DC 20593-7605”.

PART 135—OFFSHORE OIL POLLUTION COMPENSATION FUND

38. The authority citation for part 135 continues to read as follows:

Authority: 33 U.S.C. 2701-2719; E.O. 12777, 56 FR 54757; Department of Homeland Security Delegation No. 0170.1, para. 2(80).

§ 135.9 [Amended]

39. In § 135.9, remove the text “NPFC MS 7100, U.S. Coast Guard, 4200 Wilson Blvd., Suite 1000, Arlington, VA 20598-7100” and add, in its place, the text “U.S. Coast Guard Stop 7605, 2703 Martin Luther King Jr. Avenue SE., Washington, DC 20593-7605”.

PART 136—OIL SPILL LIABILITY TRUST FUND; CLAIMS PROCEDURES; DESIGNATION OF SOURCE; AND ADVERTISEMENT

40. The authority citation for part 136 continues to read as follows:

Authority: 33 U.S.C. 2713(e) and 2714; Sec. 1512 of the Homeland Security Act of 2002, Pub. L. 107-296, Title XV, Nov. 25, 2002, 116 Stat. 2310 (6 U.S.C. 552(d)); E.O. 12777, 56 FR 54757, 3 CFR, 1991 Comp., p. 351, as amended by E.O. 13286, 68 FR 10619, 3 CFR, 2004 Comp., p.166; Department of Homeland Security Delegation No. 0170.1, para. 2(80).

§ 136.3 [Amended]

41. In § 136.3, remove the text “NPFC MS 7100, U.S. Coast Guard, 4200 Wilson Blvd., Suite 1000, Arlington, VA 20598-7100” and add, in its place, the text “U.S. Coast Guard Stop 7605, 2703 Martin Luther King Jr. Avenue SE., Washington, DC 20593-7605”.

§ 136.5 [Amended]

42. In § 136.5(b), remove the text “NPFC MS 7100, U.S. Coast Guard, 4200 Wilson Blvd., Suite 1000, Arlington, VA 20598-7100” and add, in its place, the text “U.S. Coast Guard Stop 7605, 2703 Martin Luther King Jr. Avenue SE., Washington, DC 20593-7605”.

§ 136.101 [Amended]

43. In § 136.101(b), remove the text “NPFC MS 7100, U.S. Coast Guard, 4200 Wilson Blvd., Suite 1000, Arlington, VA 20598-7100” and add, in its place, the text “U.S. Coast Guard Stop 7605, 2703 Martin Luther King Jr. Avenue SE., Washington, DC 20593-7605”.

PART 137—OIL SPILL LIABILITY: STANDARDS FOR CONDUCTING ALL APPROPRIATE INQUIRIES UNDER THE INNOCENT LAND-OWNER DEFENSE

44. The authority citation for part 137 continues to read as follows:

Authority: 33 U.S.C. 2703(d)(4); Sec. 1512 of the Homeland Security Act of 2002, Pub. L. 107-296, Title XV, Nov. 25, 2002, 116 Stat. 2310 (6 U.S.C. 552(d)); Department of Homeland Security Delegation No. 14000.

§ 137.15 [Amended]

45. In § 137.15, remove the text “4200 Wilson Boulevard, Suite 1000, Arlington, VA” and add, in its place, the text “NPFC CV, U.S. Coast Guard Stop 7605, 2703 Martin Luther King Jr. Avenue SE., Washington, DC 20593-7605”.

PART 138—FINANCIAL RESPONSIBILITY FOR WATER POLLUTION (VESSELS) AND OPA 90 LIMITS OF LIABILITY (VESSELS, DEEPWATER PORTS AND ONSHORE FACILITIES)

46. The authority citation for part 138 continues to read as follows:

Authority: 33 U.S.C. 2704, 2716, 2716a; 42 U.S.C. 9608, 9609; 6 U.S.C. 552; E.O. 12580, Sec. 7(b), 3 CFR, 1987 Comp., p. 193; E.O. 12777, Secs. 4 and 5, 3 CFR, 1991 Comp., p. 351, as amended by E.O. 13286, Sec. 89, 3 CFR, 2004 Comp., p. 166, and by E.O. 13638, Sec. 1, 3 CFR, 2014 Comp., p.227; Department of Homeland Security Delegation Nos. 0170.1 and 5110, Revision 01. Section 138.30 also issued under the authority of 46 U.S.C. 2103 and 14302.

§ 138.45 [Amended]

47. In § 138.45(a), remove the text “NPFC CV MS 7100, U.S. Coast Guard, 4200 Wilson Blvd., Suite 1000, Arlington, VA 20598-7100, telephone 202-872-6130, fax 703-872-6123” and add, in its place, the text “U.S. Coast Guard Stop 7605, 2703 Martin Luther King Jr. Avenue SE., Washington, DC 20593-7605, telephone 202-795-6130, fax 202-795-6123”.

PART 151—VESSELS CARRYING OIL, NOXIOUS LIQUID SUBSTANCES, GARBAGE, MUNICIPAL OR COMMERCIAL WASTE, AND BALLAST WATER

48. The authority citation for part 151 continues to read as follows:

Authority: 33 U.S.C. 1321, 1902, 1903, 1908; 46 U.S.C. 6101; Pub. L. 104-227 (110 Stat. 3034); Pub. L. 108-293 (118 Stat. 1063), sec. 623; E.O. 12777, 3 CFR, 1991 Comp. p. 351; DHS Delegation No. 0170.1, sec. 2(77).

§ 151.1510 [Amended]

49. In § 151.1510(a)(3)(ii), remove the text “Stop 7410, 4200 Wilson Boulevard, Suite 400, Arlington, VA 20598-7410” and add, in its place, the text “Stop 7430, 2703 Martin Luther King Jr. Avenue SE., Washington, DC 20593-7430”.

§ 151.2025 [Amended]

50. In § 151.2025(b), remove the text “Stop 7410, 4200 Wilson Boulevard, Suite 400, Arlington, VA 20598-7410” and add, in its place, the text “Stop 7430, 2703 Martin Luther King Jr. Avenue SE., Washington, DC 20593-7430”.

§ 151.2026 [Amended]

51. In § 151.2026(b), remove the text “Stop 7410, 4200 Wilson Boulevard, Suite 400, Arlington, VA 20598-7410” and add, in its place, the text “Stop 7430, 2703 Martin Luther King Jr. Avenue SE., Washington, DC 20593-7430”.

PART 155—OIL OR HAZARDOUS MATERIAL POLLUTION PREVENTION REGULATIONS FOR VESSELS

52. The authority citation for part 155 continues to read as follows:

Authority: 3 U.S.C. 301 through 303; 33 U.S.C. 1225, 1231, 1321(j), 1903(b), 2735; E.O. 12777, 56 FR 54757, 3 CFR, 1991 Comp., p. 351; Department of Homeland Security Delegation No. 0170.1. Section 155.480 also issued under section 4110(b) of Pub. L. 101.380.

§ 155.480 [Amended]

53. In § 155.480(b)(2)(iii), after the text “46 CFR 39.2003(b)(1)”, add the text “, (2), and (3)”.

54. Amend § 155.1065 as follows:

a. In paragraph (a), remove the text “http://evrp.uscg.mil or by mail to Commandant (CG-CVC-1),” and add, in its place, the text “http://homeport.uscg.mil/vrpexpress or by mail to Commandant (CG-MER),”; and

b. Revise paragraph (h).

The revision reads as follows:

§ 155.1065 Procedures for plan submission, approval, requests for acceptance of alternative planning criteria, and appeal.

* * * * *

(h) Within 21 days of notification that a plan is not approved, the vessel owner or operator may appeal that determination to the Director of Incident Management and Preparedness Policy (CG-5RI). This appeal must be submitted in writing to Commandant (CG-5RI), Attn: Director of Incident Management and Preparedness Policy, U.S. Coast Guard Stop 7516, 2703 Martin Luther King Jr. Avenue SE., Washington, DC 20593-7516.

55. Amend § 155.1070 as follows:

a. In paragraph (f) introductory text, remove the text “Commandant (CG-CVC), Attn: Office of Commercial Vessel Compliance, U.S. Coast Guard Stop 7501, 2703 Martin Luther King Jr. Avenue SE., Washington, DC 20593-7501” and add, in its place, the text “Commandant (CG-MER), Attn: Vessel Response Plans, U.S. Coast Guard Stop 7516, 2703 Martin Luther King Jr. Avenue SE., Washington, DC 20593-7516”; and

b. Revise paragraph (g).

The revision reads as follows:

§ 155.1070 Procedures for plan review, revision, amendment, and appeal.

* * * * *

(g) Within 21 days of notification that a plan is not approved, the vessel owner or operator may appeal that determination to the Director of Incident Management and Preparedness Policy (CG-5RI). This appeal must be submitted in writing to Commandant (CG-5RI), Attn: Director of Incident Management and Preparedness Policy, U.S. Coast Guard Stop 7516, 2703 Martin Luther King Jr. Avenue SE., Washington, DC 20593-7516.

* * * * *

§ 155.4025 [Amended]

56. Amend § 155.4025, in paragraph (1)(iii) of the definition of “Contract or other approved means”, by removing the text “Commandant, Director of Prevention Policy (CG-54)” and adding, in its place, the text “Assistant Commandant for Response Policy (CG-5R)”.

§ 155.4055 [Amended]

57. Amend § 155.4055 as follows:

a. In paragraph (d), remove the text “Commandant, Director of Prevention Policy (CG-5P)” and add, in its place, the text “Assistant Commandant for Response Policy (CG-5R)”; and remove the text “District to the Commandant (CG-5P)” and add, in its place, the text “District, to the Assistant Commandant (CG-5R)”; and

b. In paragraph (f), remove the text “Commandant, Director of Prevention Policy (CG-5P)” and add, in its place, the text “Assistant Commandant for Response Policy (CG-5R)”.

§ 155.5035 [Amended]

58. In § 155.5035(k) introductory text, remove the text “Commandant (CG-CVC), Office of Commercial Vessel Compliance” and add, in its place, the text “Commandant (CG-MER), Office of Marine Environmental Response Policy”.

§ 155.5061 [Amended]

59. Amend § 155.5061 as follows:

a. In paragraph (a), remove the text “Commandant (CG-CVC)” and add, in its place, the text “(CG-MER), Office of Marine Environmental Response Policy”; and

b. In paragraphs (c) introductory text and (f), remove the text “(CG-CVC)” and add, in its place, the text “(CG-MER)”.

§ 155.5065 [Amended]

60. In § 155.5065(a), remove the text “(CG-CVC-1), Attn: Vessel Response Plans, U.S. Coast Guard Stop 7501, 2703 Martin Luther King Jr. Avenue SE., Washington, DC 20593-7501” and add, in its place, the text “(CG-MER), Attn: Vessel Response Plans, U.S. Coast Guard Stop 7516, 2703 Martin Luther King Jr. Avenue SE., Washington, DC 20593-7516”.

§ 155.5067 [Amended]

61. In § 155.5067(a), following the text “being considered by Commandant” remove the text “(CG-CVC), Office of Commercial Vessel Compliance” and add, in its place, the text “(CG-MER), Office of Marine Environmental Response Policy”; and following the text “received by Commandant” remove the text “(CG-CVC)” and add, in its place, the text “(CG-MER)”.

62. Amend § 155.5075 as follows:

a. In paragraph (a) introductory text, remove the text “(CG-5PC), Attn: Director of Inspections and Compliance, U.S. Coast Guard Stop 7501, 2703 Martin Luther King Jr. Avenue SE., Washington, DC 20593-7501” and add, in its place, the text “(CG-5RI), Attn: Director of Incident Management and Preparedness Policy, U.S. Coast Guard Stop 7516, 2703 Martin Luther King Jr. Avenue SE., Washington, DC 20593-7516”; and

b. Revise paragraph (b).

The revision reads as follows:

§ 155.5075 Appeal procedures.

* * * * *

(b) Within 21 days of notification that a VRP is not approved, the vessel owner or operator may appeal that determination to the Director of Incident Management and Preparedness Policy (CG-5RI). This appeal must be submitted in writing to Commandant (CG-5RI), Attn: Director of Incident Management and Preparedness Policy, U.S. Coast Guard Stop 7516, 2703 Martin Luther King Jr. Avenue SE., Washington, DC 20593-7516.

Appendix B to Part 155 [Amended]

63. In section 6.5 of appendix B, remove the text “(CG-CVC-1), Attn: Vessel Response Plans, U.S. Coast Guard Stop 7501, 2703 Martin Luther King Jr. Avenue SE., Washington, DC 20593-7501” and add, in its place, the text “(CG-MER), Attn: Vessel Response Plans, U.S. Coast Guard Stop 7516, 2703 Martin Luther King Jr. Avenue SE., Washington, DC 20593-7516”.

PART 157—RULES FOR THE PROTECTION OF THE MARINE ENVIRONMENT RELATING TO TANK VESSELS CARRYING OIL IN BULK

64. The authority citation for part 157 continues to read as follows:

Authority: 33 U.S.C. 1903; 46 U.S.C. 3703, 3703a (note); Department of Homeland Security Delegation No. 0170.1. Subparts G, H, and I are also issued under section 4115(b), Pub. L. 101-380, 104 Stat. 520; Pub. L. 104-55, 109 Stat. 546.

§ 157.100 [Amended]

65. In § 157.100(b), remove the text “Stop 7410, 4200 Wilson Boulevard Suite 400, Arlington, VA 20598-7410” and add, in its place, the text “Stop 7430, 2703 Martin Luther King Jr. Avenue SE., Washington, DC 20593-7430.”.

§ 157.200 [Amended]

66. In § 157.200(b), remove the text “Stop 7410, 4200 Wilson Boulevard, Suite 400, Arlington, VA 20598-7410” and add, in its place, the text “Stop 7430, 2703 Martin Luther King Jr. Avenue SE., Washington, DC 20593-7430”

PART 159—MARINE SANITATION DEVICES

67. The authority citation for part 159 continues to read as follows:

Authority: 33 U.S.C. 1322(b)(1); 49 CFR 1.45(b). Subpart E also issued under authority of sec. 1(a)(4), Pub. L. 106-554, 114 Stat. 2763; Department of Homeland Security Delegation No. 0170.1.

§ 159.4 [Amended]

68. In § 159.4(a), remove the text “Stop 7410, 4200 Wilson Boulevard, Suite 400, Arlington, VA 20598-7410” and add, in its place, the text “Stop 7430, 2703 Martin Luther King Jr. Avenue SE., Washington, DC 20593-7430”.

§ 159.12 [Amended]

69. In § 159.12(c) introductory text, remove the text “Stop 7410, 4200 Wilson Boulevard, Suite 400, Arlington, VA 20598-7410” and add, in its place, the text “Stop 7430, 2703 Martin Luther King Jr. Avenue SE., Washington, DC 20593-7430”.

§ 159.15 [Amended]

70. In § 159.15(a) introductory text and (c), remove each instance of the text “Stop 7410, 4200 Wilson Boulevard, Suite 400, Arlington, VA 20598-7410” and add, in their place, the text “Stop 7430, 2703 Martin Luther King Jr. Avenue SE., Washington, DC 20593-7430”.

§ 159.17 [Amended]

71. In § 159.17(a), remove the text “Stop 7410, 4200 Wilson Boulevard, Suite 400, Arlington, VA 20598-7410” and add, in its place, the text “Stop 7430, 2703 Martin Luther King Jr. Avenue SE., Washington, DC 20593-7430”.

§ 159.19 [Amended]

72. In § 159.19(a), remove the text “Stop 7410, 4200 Wilson Boulevard, Suite 400, Arlington, VA 20598-7410” and add, in its place, the text “Stop 7430, 2703 Martin Luther King Jr. Avenue SE., Washington, DC 20593-7430”.

PART 161—VESSEL TRAFFIC MANAGEMENT

73. The authority citation for part 161 continues to read as follows:

Authority: 33 U.S.C. 1223, 1231; 46 U.S.C. 70114, 70119; Pub. L. 107-295, 116 Stat. 2064; Department of Homeland Security Delegation No. 0170.1.

74. Amend § 161.12(c) as follows:

a. Remove the text “Table 161.12(c)” and add, in its place, the text “Table 1 to § 161.12(c)”; and

b. Revise the table.

The revision reads as follows:

§ 161.12 Vessel operating requirements.

* * * * *

(c) * * *

Table 1 to § 161.12(c)—VTS and VMRS Centers, Call Signs/MMSI, Designated Frequencies, and Monitoring Areas
Designation | VTS and VMRS Centers | Center call sign and MMSI ¹ | Designated frequency (channel designation)—purpose ² | Monitoring area 3 4
(1) | Berwick Bay— | Berwick Traffic 003669950 | 156.550 MHz (Ch. 11) | The waters south of 29°45.00′ N., west of 91°10.00′ W., north of 29°37.00′ N., and east of 91°18.00′ W.
(2) | Buzzards Bay— | Buzzards Bay Control ⁵ | 156.550 MHz (Ch. 11) | The waters east and north of a line drawn from the southern tangent of Sakonnet Point, Rhode Island, in approximate position latitude 41°27.20′ N., longitude 71°11.70′ W., to the Buzzards Bay Entrance Light in approximate position latitude 41°23.48′ N., longitude 71°02.5′ W., and then to the southwestern tangent of Cuttyhunk Island, Massachusetts, at approximate position latitude 41°24.60′ N., longitude 70°57.00′ W., and including all of the Cape Cod Canal to its eastern entrance, except that the area of New Bedford Harbor within the confines (north of) the hurricane barrier, and the passages through the Elizabeth Islands, is not considered to be “Buzzards Bay”.
(3) | Houston-Galveston— |  |  | The navigable waters north of 29°00.00′ N., west of 94°20.00′ W., south of 29°49.00′ N., and east of 95°20.00′ W.
(i) |  | Houston Traffic 003669954 | 156.550 MHz (Ch. 11) 156.250 MHz (Ch. 5A)—For Sailing Plans only | The navigable waters north of a line extending due west from the southernmost end of Exxon Dock #1 (20°43.37′ N., 95°01.27′ W.).
(ii) |  | Houston Traffic | 156.600 MHz (Ch. 12) 156.250 MHz (Ch. 5A)—For Sailing Plans only | The navigable waters south of a line extending due west from the southernmost end of Exxon Dock #1 (29°43.37′ N., 95°01.27′ W.).
(4) | Los Angeles-Long Beach— | San Pedro Traffic 03660465 | 156.700 MHz (Ch. 14) | Vessel Movement Reporting System Area: The navigable waters within a 25 nautical mile radius of Point Fermin Light (33°42.30′ N., 118°17.60′ W.).
(5) | Louisville— | Louisville Traffic 003669732 | 156.650 MHz (Ch. 13) | The waters of the Ohio River between McAlpine Locks (Mile 606) and Twelve Mile Island (Mile 593), only when the McAlpine upper pool gauge is at approximately 13.0 feet or above.
(6) | Lower Mississippi River—
(i) |  | New Orleans Traffic 0036699952 | 156.550 MHz (Ch. 11) | The navigable waters of the Lower Mississippi River below 29°55.30′ N., 89°55.60′ W. (Saxonholm Light) at 86.0 miles Above Head of Passes (AHP), extending down river to Southwest Pass, and, within a 12 nautical mile radius around 28°54.30′ N., 89°25.70′ W. (Southwest Pass Entrance Light) at 20.1 miles Below Head of Passes (BHP).
(ii) |  | New Orleans Traffic | 156.600 MHz (Ch. 12) | The navigable waters of the Lower Mississippi River bounded on the north by a line drawn perpendicular on the river at 29°55.50′ N., 90°12.77′ W. (Upper Twelve Mile Point) at 109.0 miles AHP and on the south by a line drawn perpendicularly at 29°55.30′ N., 89°55.60′ W. (Saxonholm Light) at 86.0 miles AHP.
(iii) |  | New Orleans Traffic | 156.250 MHz (Ch. 05A) | The navigable waters of the Lower Mississippi River below 30°38.70′ N., 91°17.50′ W. (Port Hudson Light) at 254.5 miles AHP bounded on the south by a line drawn perpendicular on the river at 29°55.50′ N., 90°12.77′ W. (Upper Twelve Mile Point) at 109.0 miles AHP.
(7) | New York—
(i) |  | New York Traffic 003669951 | 156.550 MHz (Ch. 11)—For Sailing Plans only 156.600 MHz (Ch. 12)—For vessels at anchor | The area consists of the navigable waters of the Lower New York Bay bounded on the east by a line drawn from Norton Point to Breezy Point; on the south by a line connecting the entrance buoys at the Ambrose Channel, Swash Channel, and Sandy Hook Channel to Sandy Hook Point; and on the southeast including the waters of Sandy Hook Bay south to a line drawn at latitude 40°25.00′ N.; then west in the Raritan Bay to the Raritan River Railroad Bridge, then north into waters of the Arthur Kill and Newark Bay to the Lehigh Valley Draw Bridge at latitude 40°41.90′ N.; and then east including the waters of the Kill Van Kull (KVK) and the Upper New York Bay north to a line drawn east-west from the Holland Tunnel ventilator shaft at latitude 40°43.70′ N., longitude 74°01.60′ W., in the Hudson River; and then continuing east including the waters of the East River to the Throgs Neck Bridge, excluding the Harlem River.
(ii) |  | New York Traffic | 156.700 MHz (Ch. 14) | The navigable waters of the Lower New York Bay west of a line drawn from Norton Point to Breezy Point; and north of a line connecting the entrance buoys of Ambrose Channel, Swash Channel, and Sandy Hook Channel, to Sandy Hook Point; on the southeast including the waters of the Sandy Hook Bay south to a line drawn at latitude 40°25.00′ N.; then west into the waters of Raritan Bay East Reach to a line drawn from Great Kills Light south through Raritan Bay East Reach LGB #14 to Comfort Point, New Jersey; then north including the waters of the Upper New York Bay south of 40°42.40′ N. (Brooklyn Bridge) and 40°43.70′ N. (Holland Tunnel Ventilator Shaft); west through the KVK into the Arthur Kill north of 40°38.25′ N. (Arthur Kill Railroad Bridge); then north into the waters of the Newark Bay, south of 40°41.95′ N. (Lehigh Valley Draw Bridge).
(iii) |  | New York Traffic | 156.600 MHz (Ch. 12) | The navigable waters of the Raritan Bay south to a line drawn at latitude 40°26.00′ N.; then west of a line drawn from Great Kills Light south through the Raritan Bay East Reach LGB #14 to Point Comfort, New Jersey; then west to the Raritan River Railroad Bridge; and north including the waters of the Arthur Kill to 40°28.25′ N. (Arthur Kill Railroad Bridge); including the waters of the East River north of 40°42.40′ N. (Brooklyn Bridge) to the Throgs Neck Bridge, excluding the Harlem River.
(8) | Port Arthur—
(i) |  | Port Arthur Traffic 003669955 | 156.050 MHz (Ch. 01A) | The navigable waters of the Sabine-Neches Canal south of 29°52.70′ N.; Port Arthur Canal; Sabine Pass Channel; Sabine Bank Channel; Sabine Outer Bar Channel; the offshore safety fairway; and the ICW from High Island to its intersection with the Sabine-Neches Canal.
(ii) |  | Port Arthur Traffic | 156.275 MHz (Ch. 65A) | The navigable waters of the Neches River; Sabine River; and Sabine-Neches Waterway north of 29°52.70′ N.; and the ICW from its intersection with the Sabine River to MM 260.
(iii) |  | Port Arthur Traffic | 156.675 MHz (Ch. 73) ⁶ | The navigable waters of the Calcasieu Channel; Calcasieu River Channel; and the ICW from MM 260 to MM 191.
(9) | Prince William Sound— | Valdez Traffic 003669958 | 156.650 MHz (CH. 13) | The navigable waters south of 61°05.00′ N., east of 147°20.00′ W., north of 60°00.00′ N., and west of 146°30.00′ W.; and, all navigable waters in Port Valdez.
(10) | Puget Sound— ⁷
(i) |  | Seattle Traffic—003669957 | 156.700 MHz (Ch. 14) | The waters of Puget Sound, Hood Canal and adjacent waters south of a line connecting Nodule Point and Bush Point in Admiralty Inlet and south of a line drawn due east from the southernmost tip of Possession Point on Whidbey Island to the shoreline.
(ii) |  | Seattle Traffic— | 156.250 MHz (Ch. 5A) | The U.S. waters of the Strait of Juan de Fuca east of 124°40.00′ W. including waters south and east of a line drawn from Church Point on Vancouver Island, to Race Rocks Light, due east to the intersection of the U.S./Canadian border at 48°17.88′ N., 123°14.1′ W., north-easterly to Hein Bank in position 48°21.094′ N., 123°02.672′ W., northerly to Cattle Point Light on San Juan Island, along the shoreline to Lime Kiln Light, to Kellett Bluff Light on Henry Island, along the shoreline to the tip of McCracken Point at the northernmost point of Henry Island, to the southernmost point on Stuart Island in position 48°39.46′ N., 123°11.08′ W., along the shoreline to Turn Point Light, to Sandy Point on Waldron Island, along the shoreline to Point Hammond, to Patos Island Light, to Alden Bank in position 48°50.39′ N., 122°52.227′ W., then due north to Boundary Bay in position 49°00.125′ N., 122°52.228′ W., then due east along the international boundary to the shoreline in Semiahmoo Bay line connecting Nodule Point and Bush Point and all waters east of Whidbey Island north of a line drawn due east from the southernmost tip of Possession Point on Whidbey Island to the shoreline.
(iii) |  | Prince Rupert Traffic—003160013 | 156.725 MHz (Ch. 74) | The waters west of 124°40.00′ W. within 12 nautical miles of the coast of Vancouver Island including the waters north of 48°00.00′ N., and east of 125°15.00′ W.
(iv) |  | Victoria Traffic—003160010 | 156.550 MHz (Ch. 11) | The waters of the Strait of Georgia, including Vancouver Harbor, Boundary Pass, and Haro Strait north and west of a line drawn from Church Point on Vancouver Island, to Race Rocks Light, due easterly to the intersection of the U.S./Canadian border at 48°17.883′ N., 123°14.1′ W., north-easterly to Hein Bank in position 48°21.093′ N., 123°02.762′ W., northerly to Cattle Point Light on San Juan Island, along the shoreline to Lime Kiln Light, to Kellett Bluff Light on Henry Island, along the shoreline to the tip of McCracken Point at the northernmost point of Henry Island, to the southernmost point on Stuart Island in position 48°39.467′ N., 123°11.083′ W., along the shoreline to Turn Point Light, to Sandy Point on Waldron Island, along the shoreline to Point Hammond, to Patos Island Light, to Alden Bank in position 48°50.389′ N., 122°52.227′ W., then due north to Boundary Bay in position 49°00.125′ N., 122°52.227′ W., then due east along the international boundary to the shoreline in Semiahmoo Bay.
(11) | San Francisco—
(i) |  | San Francisco Traffic 003669956 | 156.700 MHz (Ch. 14) | The navigable waters of the San Francisco Offshore Precautionary Area, the navigable waters shoreward of the San Francisco Offshore Precautionary Area east of 122°42.00′ W. and north of 37°40.00′ N. extending eastward through the Golden Gate, and the navigable waters of San Francisco Bay and as far east as the port of Stockton on the San Joaquin River, as far north as the port of Sacramento on the Sacramento River.
(ii) |  | San Francisco Traffic | 156.600 MHz (Ch. 12) | The navigable waters within a 38 nautical mile radius of Mount Tamalpais (37°55.80′ N., 122°34.60′ W.) west of 122°42.00′ W. and south of 37°40.00′ N. and excluding the San Francisco Offshore Precautionary Area.
(12) | St. Mary's River— | Soo Traffic 003669953 | 156.600 MHz (Ch. 12) | The waters of the St. Mary's River and lower Whitefish Bay from 45°57.00′ N. (De Tour Reef Light) to the south, to 46°38.70′ N. (Ile Parisienne Light) to the north, except the waters of the St. Mary's Falls Canal and to the east along a line from La Pointe to Sims Point, within Potagannissing Bay and Worsley Bay.
Notes:
¹ Maritime Mobile Service Identifier (MMSI) is a unique nine-digit number assigned that identifies ship stations, ship earth stations, coast stations, coast earth stations, and group calls for use by a digital selective calling (DSC) radio, an INMARSAT ship earth station or AIS. AIS requirements are set forth in § 161.21. The requirements set forth in §§ 161.21 and 164.46 of this subchapter apply in those areas denoted with an MMSI number, except for Louisville and Los Angeles/Long Beach.
² In the event of a communication failure, difficulties or other safety factors, the Center may direct or permit a user to monitor and report on any other designated monitoring frequency or the bridge-to-bridge navigational frequency, 156.650 MHz (Channel 13) or 156.375 MHz (Channel 67), to the extent that doing so provides a level of safety beyond that provided by other means. The bridge-to-bridge navigational frequency, 156.650 MHz (Ch. 13) is used in certain monitoring areas where the level of reporting does not warrant a designated frequency.
³ All geographic coordinates (latitude and longitude) are expressed in North American Datum of 1983 (NAD 83).
⁴ Some monitoring areas extend beyond navigable waters. Although not required, users are strongly encouraged to maintain a listening watch on the designated monitoring frequency in these areas. Otherwise, they are required to maintain watch as stated in 47 CFR 80.148.
⁵ In addition to the vessels denoted in § 161.16, requirements set forth in subpart B of this part also apply to any vessel transiting VMRS Buzzards Bay required to carry a bridge-to-bridge radiotelephone by part 26 of this chapter.
⁶ Until otherwise directed, full VTS services will not be available in the Calcasieu Channel, Calcasieu River Channel, and the ICW from MM 260 to MM 191. Vessels may contact Port Arthur Traffic on the designated VTS frequency to request advisories, but are not required to monitor the VTS frequency in this sector.
⁷ A Cooperative Vessel Traffic Service was established by the United States and Canada within adjoining waters. The appropriate Center administers the rules issued by both nations; however, enforces only its own set of rules within its jurisdiction. Note: the bridge-to-bridge navigational frequency, 156.650 MHz (Ch. 13), is not so designated in Canadian waters, therefore users are encouraged and permitted to make passing arrangements on the designated monitoring frequencies.

* * * * *

§ 161.45 [Amended]

75. Amend § 161.45, in Table 161.45(b), as follows:

a. Remove the text “Table 161.45(b)” and add, in its place, the text “Table 1 to § 161.45(b)”; and

b. Remove the text “5*” in the Designator column, and add, in its place, the text “5”.

§ 161.50 [Amended]

76. In § 161.50, remove the text “37-55.8′ N., 122-34.6′ W.” and add, in its place, the text “37°55.8′ N., 122°34.6′ W.”.

77. In § 161.55, revise the introductory text and paragraph (a) to read as follows:

§ 161.55 Vessel Traffic Service Puget Sound and the Cooperative Vessel Traffic Service for the Juan de Fuca Region.

The Vessel Traffic Service Puget Sound area consists of the U.S. navigable waters of the Salish Sea from a line drawn from the Washington State coastline at 48°23.133′ N., 124°43.616′ W. on Cape Flattery to the Cape Flattery Light at 48°23.5′ N., 124°44.2′ W. on Tatoosh Island, due west to the U.S. Territorial Sea Boundary; thence northward along the U.S. Territorial Sea Boundary to its intersection with the U.S./Canada International Boundary; thence east along the U.S./Canada International Boundary to 49°00.1′ N., 122°45.3′ W. (International Boundary Range C Rear Light).

(a) Vessel Traffic Service Puget Sound participates in a U.S./Canadian Cooperative Vessel Traffic Service (CVTS) to jointly manage vessel traffic in the Juan de Fuca Region. The CVTS for the Juan de Fuca Region consists of all navigable waters of the Salish Sea, bounded on the northwest by 48°35.749′ N.; and on the southwest by 48°23.5′ N.; and on the west by the rhumb line joining 48°35.749′ N., 124°47.5′ W. with 48°23.5′ N., 124°48.616′ W.; and on the northeast by a line drawn along 49° N. from Vancouver Island to Semiahmoo Bay; and on the southeast, by a line drawn from McCurdy Point on the Quimper Peninsula to Point Partridge on Whidbey Island. Canadian and United States Vessel Traffic Centers (Prince Rupert, B.C., Canada; Vancouver, B.C., Canada; and Seattle, WA) manage traffic within the CVTS area irrespective of the International Boundary.

* * * * *

PART 162—INLAND WATERWAYS NAVIGATION REGULATIONS

78. The authority citation for part 162 continues to read as follows:

Authority: 33 U.S.C. 1231; Department of Homeland Security Delegation No. 0170.1.

§ 162.205 [Amended]

79. Amend § 162.205 as follows:

a. In paragraph (a)(3)(i), remove the text “part 80” and add, in its place, the text “part 83”.

b. In paragraph (b)(2)(i), remove the text “part 80, of this Chapter” and add, in its place, the text “part 83 of this chapter”.

PART 164—NAVIGATION SAFETY REGULATIONS

80. The authority citation for part 164 continues to read as follows:

Authority: 33 U.S.C. 1222(5), 1223, 1231; 46 U.S.C. 2103, 3703; E.O. 12234, 45 FR 58801, 3 CFR, 1980 Comp., p. 277; Department of Homeland Security Delegation No. 0170.1. Sec. 164.13 also issued under 46 U.S.C. 8502. Sec. 164.46 also issued under 46 U.S.C. 70114 and Sec. 102 of Pub. L. 107-295. Sec. 164.61 also issued under 46 U.S.C. 6101.

§ 164.33 [Amended]

81. In § 164.33(a)(3)(ii), remove the text “the U.S. Army Corps of Engineers, or”.

§ 164.46 [Amended]

82. In the note to § 164.46(b), at the end of the paragraph, add the sentence “Fishing industry vessels include fishing vessels, fish processing vessels, and fish tender vessels as defined in 46 U.S.C. 2101.”.

§ 164.72 [Amended]

83. In § 164.72(b)(2)(i)(C), remove the text “the ACOE or”.

PART 165—REGULATED NAVIGATION AREAS AND LIMITED ACCESS AREAS

84. The authority citation for part 165 continues to read as follows:

Authority: 33 U.S.C. 1231; 50 U.S.C. 191; 33 CFR 1.05-1, 6.04-1, 6.04-6, and 160.5; Department of Homeland Security Delegation No. 0170.1.

§ 165.100 [Amended]

85. Amend § 165.100(d)(5)(i) as follows:

a. Remove the text “41°-27.2′ ” and add, in its place, the text “41°27.2′ ”;

b. Remove the text “70°-11.7′ ” and add, in its place, the text “71°11.7′ ”;

c. Remove the text “41°-23.5′ ” and add, in its place, the text “41°23.48′ ”;

d. Remove the text “71°-02.0′ ” and add, in its place, the text “71°02.5′ ”;

e. Remove the text “41°-24.6′ ” and add, in its place, the text “41°24.6′ ”; and

f. Remove the text “70°-57.0′ ” and add, in its place, the text “70°57.0′ ”.

§ 165.T0704 [Removed]

86a. Remove § 165.T0704.

86b. Add § 165.704 to read as follows:

§ 165.704 Safety Zone: Savannah River, Savannah, Georgia.

(a) Location. The following area is a safety zone: Two hundred foot radius around Garden City Terminal, approximate position 32 degrees 8 minutes, N, 81 degrees 9.5 minutes W, and around all cargo ships loaded with military equipment and transiting the Savannah River.

(b) Enforcement date. This regulation was enforceable beginning at 12 p.m. on December 14, 1990.

(c) Regulation. In accordance with the general regulations in § 165.23, entry into the zone is subject to the following requirements.

(1) All persons and vessels in the vicinity of the safety zone shall immediately obey any direction or order of the Captain of the Port or a representative of the Captain of the Port.

(2) The “representative of the Captain of the Port” is any Coast Guard commissioned, warrant or petty officer who has been designated by the Captain of the Port, Savannah, GA to act on his behalf. A representative of the Captain of the Port may be contacted on board any Coast Guard vessel assigned to enforce the safety zone.

(3) Before entering the safety zone, a vessel operator shall contact the Captain of the Port or a representative of the Captain of the Port to determine what restrictions, if any, have been imposed on vessels in the safety zone. The Captain of the Port may be contacted by telephone via the Command Duty Officer at 912-652-4353. Coast Guard vessels assisting in the enforcement of the safety zone may be contacted on VHF-FM channels 13 or 16, or vessel operators may determine restrictions in effect for the safety zone by coming alongside a Coast Guard vessel patrolling the perimeter of the safety zone.

(4) The Captain of the Port will issue a Marine Safety Information Broadcast Notice to Mariners to Notify the maritime community of the safety zone and restrictions imposed.

§ 165.766 [Removed]

87. Remove § 165.766.

PART 174—STATE NUMBERING AND CASUALTY REPORTING SYSTEMS

88. The authority citation for part 174 continues to read as follows:

Authority: 46 U.S.C. 6101 and 12302; Department of Homeland Security Delegation No. 0170.1 (92).

89. Revise § 174.123 to read as follows:

§ 174.123 Annual report of vessels.

Before March 1 of each year, each State that has an approved numbering system must prepare and submit Coast Guard Form CGHQ-3923 to the Coast Guard.

PART 181—MANUFACTURER REQUIREMENTS

90. The authority citation for part 181 continues to read as follows:

Authority: 46 U.S.C. 4302; Department of Homeland Security Delegation No. 0170.1 (92).

§ 181.3 [Amended]

91. In § 181.3, remove the definition of “Model year”.

Title 46—Shipping and Transportation

PART 4—MARINE CASUALTIES AND INVESTIGATIONS

92. The authority citation for part 4 continues to read as follows:

Authority: 33 U.S.C. 1231; 43 U.S.C. 1333; 46 U.S.C. 2103, 2303a, 2306, 6101, 6301, and 6305; 50 U.S.C. 198; Department of Homeland Security Delegation No. 0170.1. Subpart 4.40 issued under 49 U.S.C. 1903(a)(1)(E).

§ 4.07-10 [Amended]

93. Amend § 4.07-10(a)(4) by removing the text “on Form CG-2636, report of violation of navigation laws”.

PART 28—REQUIREMENTS FOR COMMERCIAL FISHING INDUSTRY VESSELS

94. The authority citation for part 28 continues to read as follows:

Authority: 46 U.S.C. 3316, 4502, 4505, 4506, 6104, 8103, 10603; Department of Homeland Security Delegation No. 0170.1.

95. Revise § 28.80(d)(1) to read as follows:

§ 28.80 Report of casualty.

* * * * *

(d) * * *

(1) Verisk Insurance Solutions, ISO Claim Search® Solutions, 545 Washington Boulevard, Jersey City, NJ 07310.

* * * * *

96. Revise § 28.1105(a) to read as follows:

§ 28.1105 Request for a waiver.

(a) Vessel owners, operators, or employers who desire a waiver of citizenship requirements from the Coast Guard must submit a written request to the Commandant (CG-CVC), United States Coast Guard Headquarters, Stop 7501, 2703 Martin Luther King Jr. Avenue SE., Washington, DC 20593-7501.

* * * * *

PART 31—INSPECTION AND CERTIFICATION

97. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.10-5 [Amended]

98. Amend § 31.10-5(a) introductory text by removing the text “Stop 7410, 4200 Wilson Boulevard Suite 400, Arlington, VA 20598-7410” and adding, in its place, the text “Stop 7430, 2703 Martin Luther King Jr. Avenue SE., Washington, DC 20593-7430”.

PART 39—VAPOR CONTROL SYSTEMS

99. The authority citation for part 39 continues to read as follows:

Authority: 33 U.S.C. 1225, 1231; 42 U.S.C. 7511b(f)(2); 46 U.S.C. 3306, 3703, 3715(b); E.O. 12234, 45 FR 58801, 3 CFR, 1980 Comp., p. 277; Department of Homeland Security Delegation No. 0170.1.

100. In § 39.1003, revise the definition of “Marine Safety Center (MSC)” to read as follows:

§ 39.1003 Definitions—TB/ALL.

* * * * *

Marine Safety Center (MSC) means Commanding Officer, Marine Safety Center, U.S. Coast Guard, 2703 Martin Luther King Jr. Avenue SE., Washington, DC 20593 for visitors. Send all mail to Commanding Officer (MSC), Attn: Marine Safety Center, U.S. Coast Guard Stop 7430, 2703 Martin Luther King Jr. Avenue SE., Washington, DC 20593-7430.

* * * * *

§ 39.2007 [Amended]

101. Amend § 39.2007 as follows:

a. In paragraph (e), remove the text “39.2009(c)” and add, in its place, the text “39.2009(a)(3)”; and

b. In paragraph (f), remove the text “39.2009(d)” and add, in its place, the text “39.2009(a)(4)”.

PART 44—SPECIAL SERVICE LIMITED DOMESTIC VOYAGES

102. The authority citation for part 44 continues to read as follows:

Authority: 46 U.S.C. 5101-5116; Department of Homeland Security Delegation No. 0170.1.

103. Revise § 44.320(a) to read as follows:

§ 44.320 Submission of plans and calculations.

* * * * *

(a) Commanding Officer, Marine Safety Center, U.S. Coast Guard, 2703 Martin Luther King Jr. Avenue SE., Washington, DC 20593, for visitors. Send all mail to Commanding Officer (MSC), Attn: Marine Safety Center, U.S. Coast Guard Stop 7430, 2703 Martin Luther King Jr. Avenue SE., Washington, DC 20593-7430; or

* * * * *

PART 50—GENERAL PROVISIONS

104. The authority citation for part 50 continues to read as follows:

Authority: 43 U.S.C. 1333; 46 U.S.C. 3306, 3703; E.O. 12234, 45 FR 58801, 3 CFR, 1980 Comp., p. 277; Department of Homeland Security Delegation No. 0170.1; Section 50.01-20 also issued under the authority of 44 U.S.C. 3507.

105. Revise § 50.10-23 to read as follows:

§ 50.10-23 Marine Safety Center.

The term Marine Safety Center refers to the Commanding Officer, Marine Safety Center, U.S. Coast Guard, 2703 Martin Luther King Jr. Avenue SE., Washington, DC 20593 for visitors. Send all mail to Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

PART 58—MAIN AND AUXILIARY MACHINERY AND RELATED SYSTEMS

106. The authority citation for part 58 continues to read as follows:

Authority: 43 U.S.C. 1333; 46 U.S.C. 3306, 3703; E.O. 12234, 45 FR 58801, 3 CFR, 1980 Comp., p. 277; Department of Homeland Security Delegation No. 0170.1.

107. Amend § 58.50-5 as follows:

a. In paragraph (a)(2), remove the text “Table 58.50-5(a)” and add, in its place, the text “Table 1 to § 58.50-5(a)”; and

b. Revise the table in paragraph (a).

The revision reads as follows:

§ 58.50-5 Gasoline fuel tanks.

(a) * * *

Table 1 to § 58.50-5(a)
Material | ASTM specification (all incorporated by reference; see 46 CFR 58.03-1) | Thickness in inches and gage numbers ¹ vs. tank capacities for—: 1- through 80-gallon tanks | Thickness in inches and gage numbers ¹ vs. tank capacities for—: More than 80- and not more than 150-gallon tanks | Thickness in inches and gage numbers ¹ vs. tank capacities for—: Over 150-gallon tanks ²
Aluminum ⁵ | B 209, Alloy 5086 ⁶ | 0.250 (USSG 3) | 0.250 (USSG 3) | 0.250 (USSG 3).
Nickel-copper | B 127, Hot rolled sheet or plate | 0.037 (USSG 20) ³ | 0.050 (USSG 18) | 0.107 (USSG 12).
Copper-nickel | B 122, Alloy No. 5 | 0.045 (AWG 17) | 0.057 (AWG 15) | 0.128 (AWG 8).
Copper | B 152, Type ETP | 0.057 (AWG 15) | 0.080 (AWG 12) | 0.182 (AWG 5).
Copper-silicon | B 96, alloys C65100 and C65500 | 0.050 (AWG 16) | 0.064 (AWG 14) | 0.144 (AWG 7).
Steel or iron ⁴ |  | 0.0747 (MfgStd 14) | 0.1046 (MfgStd 12) | 0.179 (MfgStd 7).
Notes:
¹ Gauges used are U.S. standard “USSG” for aluminum and nickel-copper; “AWG” for copper, copper-nickel and copper-silicon; and “MfgStd” for steel.
² Tanks over 400 gallons will be designed with a factor of safety of four on the ultimate strength of the material used with a design head of not less than 4 feet of liquid above the top of the tank.
³ Nickel-copper not less than 0.031 inch (USSG 22) may be used for tanks up to a 30-gallon capacity.
⁴ Fuel tanks constructed of iron or steel, which is less than 3/16-inch thick must be galvanized inside and outside by the hot dip process.
⁵ Anodic to most common metals. Avoid dissimilar metal contact with tank body.
⁶ And other alloys acceptable to the Commandant.

* * * * *

108. Amend § 58.50-10 as follows:

a. In paragraph (a)(2), remove the text “Table 58.50-10(a)” and add, in its place, the text “Table 1 to § 58.50-10(a)”; and

b. Revise the table in paragraph (a).

The revision reads as follows:

§ 58.50-10 Diesel fuel tanks.

(a) * * *

Table 1 to § 58.50-10(a)
Material | ASTM specification (all incorporated by reference; see 46 CFR 58.03-1) | Thickness in inches and gage numbers ¹ vs. tank capacities for—: 1- through 80-gallon tanks | Thickness in inches and gage numbers ¹ vs. tank capacities for—: More than 80- and not more than 150-gallon tanks | Thickness in inches and gage numbers ¹ vs. tank capacities for—: Over 150-gallon tanks ²
Aluminum ⁵ | B 209, Alloy 5086 ⁶ | 0.250 (USSG 3) | 0.250 (USSG 3) | 0.250 (USSG 3).
Nickel-copper | B 127, Hot rolled sheet or plate | 0.037 (USSG 20) ³ | 0.050 (USSG 18) | 0.107 (USSG 12).
Steel or iron ⁴ |  | 0.0747 (MfgStd 14) | 0.1046 (MfgStd 12) | 0.179 (MfgStd 7).
Notes:
¹ Gauges used are U.S. standard “USSG” for aluminum and nickel-copper and “MfgStd” for steel or iron.
² Tanks over 400 gallons shall be designed with a factor of safety of four on the ultimate strength of the material used with a design head of not less than 4 feet of liquid above the top of the tank.
³ Nickel-copper not less than 0.031 inch (USSG 22) may be used for tanks up to a 30-gallon capacity.
⁴ For diesel tanks the steel or iron shall not be galvanized on the interior.
⁵ Anodic to most common metals. Avoid dissimilar metal contact with tank body.
⁶ And other alloys acceptable to the Commandant.

* * * * *

PART 63—AUTOMATIC AUXILIARY BOILERS

109. The authority citation for part 63 continues to read as follows:

Authority: 46 U.S.C. 3306, 3703; E.O. 12234, 45 FR 58801, 3 CFR, 1980 Comp., p. 277; Department of Homeland Security Delegation No. 0170.1.

110. Revise the introductory text of § 63.10-1 to read as follows:

§ 63.10-1 Test procedures and certification report.

Two copies of the following items must be submitted. Visitors may deliver them to the Commanding Officer, Marine Safety Center, U.S. Coast Guard, 2703 Martin Luther King Jr. Avenue SE., Washington, DC 20593, or they may be transmitted by mail to the Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

111. Revise § 63.25-9(a) to read as follows:

§ 63.25-9 Incinerators.

(a) General. Incinerators installed on or after March 26, 1998 must meet the requirements of IMO MEPC.76(40) (incorporated by reference; see § 63.05-1). Incinerators in compliance with ISO 13617 (incorporated by reference; see § 63.05-1), are considered to meet IMO MEPC.76(40). Incinerators in compliance with both ASTM F 1323 (incorporated by reference; see § 63.05-1) and Annexes A1-A3 of IMO MEPC.76(40) are considered to meet IMO MEPC.76(40). An application for type approval of shipboard incinerators may be delivered to the Commanding Officer, Marine Safety Center, U.S. Coast Guard, 2703 Martin Luther King Jr. Avenue SE., Washington, DC 20593, or it may be transmitted by mail to the Commanding Officer (MSC), Attn: Marine Safety Center, U.S. Coast Guard Stop 7430, 2703 Martin Luther King Jr. Avenue SE., Washington, DC 20593-7430.

* * * * *

PART 69—MEASUREMENT OF VESSELS

112. The authority citation for part 69 continues to read as follows:

Authority: 46 U.S.C. 2301, 14103, 14104; Department of Homeland Security Delegation No. 0170.1.

113. Revise § 69.15(a) to read as follows:

§ 69.15 Authorized measurement organizations.

(a) Except as noted under paragraphs (c) and (d) of this section, measurement or remeasurement of all vessels under the Convention Measurement System and Standard and Dual Regulatory Measurement Systems must be performed by an authorized measurement organization meeting the requirements of § 69.27. A current listing of authorized measurement organizations may be obtained from the Commanding Officer, Marine Safety Center (MSC-4), U.S. Coast Guard, 2703 Martin Luther King Jr. Avenue SE., Washington, DC 20593 or by writing to Commanding Officer (MSC), Attn: Marine Safety Center, U.S. Coast Guard Stop 7430, 2703 Martin Luther King Jr. Avenue SE., Washington, DC 20593-7430.

* * * * *

PART 71—INSPECTION AND CERTIFICATION

114. The authority citation for part 71 continues to read as follows:

Authority: 33 U.S.C. 1321(j); 46 U.S.C. 2113, 3205, 3306, 3307; E.O. 12234, 45 FR 58801, 3 CFR, 1980 Comp., p. 277; E.O. 12777, 56 FR 54757, 3 CFR, 1991 Comp., p. 351; Department of Homeland Security Delegation No. 0170.1.

115. Revise § 71.65-15(a)(2) to read as follows:

§ 71.65-15 Procedure for submittal of plans.

(a) * * *

(2) The plans may be submitted by visitors directly to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC. In this case, the plans will be returned directly to the submitter, with a copy of the action being forwarded to the interested Officer in Charge, Marine Inspection.

* * * * *

PART 107—INSPECTION AND CERTIFICATION

116. The authority citation for part 107 continues to read as follows:

Authority: 43 U.S.C. 1333; 46 U.S.C. 3306, 3307; 46 U.S.C. 3316; Department of Homeland Security Delegation No. 0170.1; § 107.05 also issued under the authority of 44 U.S.C. 3507.

117. Revise § 107.317(b) to read as follows:

§ 107.317 Addresses for submittal of plans, specifications, and calculations.

* * * * *

(b) By visitors to the Commanding Officer, Marine Safety Center, U.S. Coast Guard, 2703 Martin Luther King Jr. Avenue SE., Washington, DC 20593, or by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

PART 110—GENERAL PROVISIONS

118. The authority citation for part 110 is revised to read as follows:

Authority: 43 U.S.C 1333; 46 U.S.C. 3306, 3307, 3703; E.O. 12234, 45 FR 58801, 3 CFR, 1980 Comp., p. 277; Department of Homeland Security Delegation No. 0170.1; § 110.01-2 also issued under 44 U.S.C. 3507. Sections 110.15-1 and 110.25-1 also issued under sec. 617, Pub. L. 111-281, 124 Stat. 2905.

§ 110.15-1 [Amended]

119. In § 110.15-1(b), remove the definitions of “Marine inspector or inspector” and “Qualified person”.

120. Revise § 110.25-3(a)(1) to read as follows:

§ 110.25-3 Procedure for submitting plans.

(a) * * *

(1) By visitors to the Commanding Officer, Marine Safety Center, U.S. Coast Guard, 2703 Martin Luther King Jr. Avenue SE., Washington, DC 20593, or by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

PART 111—ELECTRIC SYSTEMS—GENERAL REQUIREMENTS

121. The authority citation for part 111 continues to read as follows:

Authority: 46 U.S.C. 3306, 3703; Department of Homeland Security Delegation No. 0170.1. Section 111.05-20 and Subpart 111.106 also issued under sec. 617, Pub. L. 111-281, 124 Stat. 2905.

§ 111.33-1 [Amended]

122. Amend § 111.33-1 by removing the text “§§ 111.30-11, 111.30-19 and 111.30-21” and adding, in its place, the text “§§ 111.30-11 and 111.30-19”.

§ 111.105-19 [Amended]

123. Amend § 111.105-19 by removing the text “§ 111.105-19” and adding, in its place, the text “§ 111.105-9”.

PART 116—CONSTRUCTION AND ARRANGEMENT

124. The authority citation for part 116 continues to read as follows:

Authority: 46 U.S.C. 2103, 3306; E.O. 12234, 45 FR 58801, 3 CFR, 1980 Comp., p. 277, Department of Homeland Security Delegation No. 0170.1.

125. Revise § 116.202(a) introductory text to read as follows:

§ 116.202 Plans and information required.

(a) Except as provided in § 116.210, the owner of a vessel requesting initial inspection for certification must, prior to the start of construction, submit for approval three copies of the following plans. The plans may be delivered by visitors to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

PART 120—ELECTRICAL INSTALLATION

126. The authority citation for part 120 continues to read as follows:

Authority: 46 U.S.C. 2103, 3306; E.O. 12234, 45 FR 58801, 3 CFR, 1980 Comp., p. 277; Department of Homeland Security Delegation No. 0170.1.

§ 120.340 [Amended]

127. Amend § 120.340 as follows:

a. In paragraph (p), remove the text “Table 120.3340(p)” and add, in its place, the text “Table 1 to § 120.340(p)”; and

b. In the table in paragraph (p), remove the heading “Table 120.340(p)” and add, in its place, the heading “Table 1 to § 120.340(p)—Conductor Sizes for Amperes—Lengths”.

PART 127—CONSTRUCTION AND ARRANGEMENTS

128. The authority citation for part 127 continues to read as follows:

Authority: 46 U.S.C. 3306; sec. 617, Pub. L. 111-281, 124 Stat. 2905; Department of Homeland Security Delegation No. 0170.1.

129. Revise § 127.120(b) to read as follows:

§ 127.120 Procedure for submittal of plans.

* * * * *

(b) By visitors to the Commanding Officer, Marine Safety Center, U.S. Coast Guard, 2703 Martin Luther King Jr. Avenue SE., Washington, DC 20593, or by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

PART 153—SHIPS CARRYING BULK LIQUID, LIQUEFIED GAS, OR COMPRESSED GAS HAZARDOUS MATERIALS

130. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903(b).

§ 153.9 [Amended]

131. Amend § 153.9(b) introductory text by removing the text “Stop 7410, 4200 Wilson Boulevard, Suite 400, Arlington, VA 20598-7410” and adding, in its place, the text “Stop 7430, 2703 Martin Luther King Jr. Avenue SE., Washington, DC 20593-7430”.

PART 154—SAFETY STANDARDS FOR SELF-PROPELLED VESSELS CARRYING BULK LIQUEFIED GASES

132. The authority citation for part 154 continues to read as follows:

Authority: 46 U.S.C. 3703, 9101; Department of Homeland Security Delegation No. 0170.1.

§ 154.22 [Amended]

133. Amend § 154.22(a) introductory text by removing the text “Stop 7410, 4200 Wilson Boulevard, Suite 400, Arlington, VA 20598-7410” and adding, in its place, the text “Stop 7430, 2703 Martin Luther King Jr. Avenue SE., Washington, DC 20593-7430”.

PART 161—ELECTRICAL EQUIPMENT

134. The authority citation for part 161 continues to read as follows:

Authority: 46 U.S.C. 3306, 3703, 4302; E.O. 12234, 45 FR 58801, 3 CFR, 1980 Comp., p. 277; Department of Homeland Security Delegation No. 0170.1.

§ 161.010-1 [Amended]

135. Amend § 161.010-1(a) by removing the text “4200 Wilson Boulevard, Suite 400, Arlington, VA 22203” and adding, in its place, the text “2703 Martin Luther King Jr. Avenue SE., Washington, DC 20593”.

136. Revise § 161.010-4(a) to read as follows:

§ 161.010-4 Procedure for approval.

(a) A request for approval of an automatic floating electric waterlight must be submitted by visitors to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

PART 162—ENGINEERING EQUIPMENT

137. The authority citation for part 162 continues to read as follows:

Authority: 33 U.S.C. 1321(j), 1903; 46 U.S.C. 3306, 3703, 4104, 4302; E.O. 12234, 45 FR 58801, 3 CFR, 1980 Comp., p. 277; E.O. 12777, 56 FR 54757, 3 CFR, 1991 Comp., p. 351; Department of Homeland Security Delegation No. 0170.1.

138. Revise § 162.017-6(a) to read as follows:

§ 162.017-6 Procedure for approval.

(a) General. Pressure-vacuum relief valves intended for use on tank vessels must be approved for such use by the Commanding Officer, U.S. Coast Guard Marine Safety Center. Applications for approval may be delivered by visitors to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

139. Revise § 162.018-8(a) to read as follows:

§ 162.018-8 Procedure for approval.

(a) General. Safety relief valves for use on pressure vessels containing liquefied compressed gases must be approved by the Commanding Officer, U.S. Coast Guard Marine Safety Center. Applications for approval may be delivered by visitors to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

140. Revise § 162.050-7(a) to read as follows:

§ 162.050-7 Approval procedures.

(a) An application for approval of equipment under this subpart must either be delivered by visitors to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

* * * * *

§ 162.060-10 [Amended]

141. Amend § 162.060-10(a) introductory text and (b)(1) by removing the text “Stop 7410, 4200 Wilson Boulevard, Suite 400, Arlington, VA 20598-7410” and adding, in its place, the text “Stop 7430, 2703 Martin Luther King Jr. Avenue SE., Washington, DC 20593-7430”.

§ 162.060-14 [Amended]

142. Amend § 162.060-14(b) by removing the text “Stop 7410, 4200 Wilson Boulevard, Suite 400, Arlington, VA 20598-7410” and adding, in its place, the text “Stop 7430, 2703 Martin Luther King Jr. Avenue SE., Washington, DC 20593-7430”.

§ 162.060-42 [Amended]

143. Amend § 162.060-42(a)(3) and (g) by removing the text “Stop 7410, 4200 Wilson Boulevard, Suite 400, Arlington, VA 20598-7410” and adding, in its place, the text “Stop 7430, 2703 Martin Luther King Jr. Avenue SE., Washington, DC 20593-7430”.

PART 170—STABILITY REQUIREMENTS FOR ALL INSPECTED VESSELS

144. The authority citation for part 170 continues to read as follows:

Authority: 43 U.S.C. 1333; 46 U.S.C. 2103, 3306, 3703; E.O. 12234, 45 FR 58801, 3 CFR, 1980 Comp., p. 277; Department of Homeland Security Delegation No. 0170.1.

§ 170.010 [Amended]

145. Amend § 170.010 by removing the text “Stop 7410, 4200 Wilson Boulevard, Suite 400, Arlington, VA 20598-7410” and adding, in its place, the text “Stop 7430, 2703 Martin Luther King Jr. Avenue SE., Washington, DC 20593-7430”.

146. Revise § 170.100(b) to read as follows:

§ 170.100 Addresses for submittal of plans and calculations.

* * * * *

(b) By visitors to the Commanding Officer, Marine Safety Center, U.S. Coast Guard, 2703 Martin Luther King Jr. Avenue SE., Washington, DC 20593, or by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC.

PART 177—CONSTRUCTION AND ARRANGEMENT

147. The authority citation for part 170 continues to read as follows:

Authority: 46 U.S.C. 2103, 3306; E.O. 12234, 45 FR 58801, 3 CFR, 1980 Comp., p. 277; Department of Homeland Security Delegation No. 0170.1.

§ 177.202 [Amended]

148. Amend § 177.202(d) by removing the text “Stop 7410, 4200 Wilson Boulevard, Suite 400, Arlington, VA 20598-7410” and adding, in its place, the text “Stop 7430, 2703 Martin Luther King Jr. Avenue SE., Washington, DC 20593-7430”.

149. Revise § 177.410(b)(5) to read as follows:

§ 177.410 Structural fire protection.

* * * * *

(b) * * *

(5) Specific laminate schedules, regardless of resin type, that have an ASTM E-84 flame spread rating of not more than 100 may be considered as equivalent to the requirement in this section to use a fire retardant resin. Requests for qualifying a specific laminate schedule as fire retardant for use in a particular vessel may be submitted for consideration by visitors to the Commanding Officer, Marine Safety Center, U.S. Coast Guard, 2703 Martin Luther King Jr. Avenue SE., Washington, DC 20593, or by mail to: Commanding Officer (MSC), Attn: Marine Safety Center, U.S. Coast Guard Stop 7430, 2703 Martin Luther King Jr. Avenue SE., Washington, DC 205930-7430, in a written or electronic format. Information for submitting the VSP electronically can be found at http://www.uscg.mil/HQ/MSC.

* * * * *

PART 182—MACHINERY INSTALLATION

150. The authority citation for part 182 continues to read as follows:

Authority: 46 U.S.C. 3306; E.O. 12234, 45 FR 58801, 3 CFR, 1980 Comp., p. 277; Department of Homeland Security Delegation No. 0170.1.

§ 182.440 [Amended]

151. Amend § 182.440 as follows:

a. In paragraph (a)(1), remove the text “Table 182.440(a)(1)” wherever it appears, and add, in its place, the text “Table 1 to § 182.440(a)(1)”; and

b. In Table 182.440(a)(1), remove the text “Table 182.440(a)(1)” and add, in its place, the text “Table 1 to § 182.440(a)(1)”.

PART 189—INSPECTION AND CERTIFICATION

152. The authority citation for part 189 continues to read as follows:

Authority: 33 U.S.C. 1321(j); 46 U.S.C. 2113, 3306, 3307; E.O. 12234, 45 FR 58801, 3 CFR, 1980 Comp., p. 277; E.O. 12777, 56 FR 54757, 3 CFR, 1991 Comp., p. 351; Department of Homeland Security Delegation No. 0170.1.

153. Revise § 189.55-15(a)(2) to read as follows:

§ 189.55-15 Procedure for submittal of plans.

(a) * * *

(2) The plans may be submitted by visitors directly to the Commanding Officer, Marine Safety Center, U.S. Coast Guard, 2703 Martin Luther King Jr. Avenue SE., Washington, DC 20593, or transmitted by mail to: Commanding Officer (MSC), Attn: Marine Safety Center, U.S. Coast Guard Stop 7430, 2703 Martin Luther King Jr. Avenue SE., Washington, DC 20593-7430, in a written or electronic format. Information for submitting the VSP electronically can be found at http://www.uscg.mil/HQ/MSC. In this case, the plans will be returned directly to the submitter, with a copy of the action being forwarded to the interested Officer in Charge, Marine Inspection.

* * * * *

Katia Kroutil,
Chief, Office of Regulations and Administrative Law, U.S. Coast Guard.

[FR Doc. 2017-14617 Filed 7-27-17; 8:45 am]

BILLING CODE 9110-04-P